DEPARTMENT OF HEALTH AND HUMAN SERVICES

Administration for Children and Families

[Program Announcement No. OCS-2001-08]

Second Request for Applications Under the Office of Community Services' Fiscal Year 2001 Assets for Independence Demonstration Program (IDA Program)

AGENCY: Office of Community Services (OCS), Administration for Children and Families, Department of Health and Human Services.

ACTION: Announcement of continuing availability of funds and request for a second round of competitive applications under the Office of Community Services' Assets for Independence Demonstration Program.

SUMMARY: Applications received pursuant to the ACF Program Announcement of February 27, 2001 revealed a need for applicants to have additional time to secure the required non-Federal matching funds. Therefore the Office of Community Services (OCS) is announcing a second invitation to eligible entities, including those which submitted applications under the Program Announcement of February 27, to submit (or re-submit) applications for new demonstration projects that will establish and support Individual Development Accounts (IDA's) for lower income individuals and families. This announcement invites applications from new applicants as well as those who were notified that their original applications under round one were deficient, or those who are able to commit larger amounts of non-Federal share than previously indicated and choose to resubmit applications for larger grant amounts. In this regard it should be noted that as explained in PART II Paragraph I, and PART III Evaluation Criterion 5 of this Announcement, applicants may themselves commit to providing the non-Federal share by including in the appendix a statement of commitment, on Applicant letterhead, signed by the official signing the SF-424 and countersigned by the Applicant's Board Chairperson or Treasurer, that the non-Federal matching funds will be provided contingent only on the award of the OCS grant. It should also be noted that under this Announcement the firm commitments of non-Federal share will be accepted as valid as long as they are provided to ACF/OCS no later than September 1, 2001. Subject to the above provisions, applications will be screened and competitively reviewed as they were under the previous round and as indicated in this Announcement. Awards will be contingent on the outcome of the competition and the availability of funds.

DATES: To be considered for funding applications must be received on or before August 23, 2001. Applications received after that date will not be accepted for consideration. However, as noted above, the firm commitments of non-Federal share will be accepted as valid as long as they are provided to ACF/OCS no later than September 1, 2001. See Part IV of this announcement for more information on submitting applications.

FOR FURTHER INFORMATION CONTACT: Sheldon Shalit (202) 401-4807, sshalit@acf.dhhs.gov, or Richard Saul (202) 401-9341, rsaul@acf.dhhs.gov, Department of Health and Human Services, Administration for Children and Families, Office of Community Services, 370 L'Enfant Promenade, SW, Washington, DC, 20447.

In addition, this Announcement will be accessible on the OCS WEBSITE for reading or downloading at: http://www.acf.dhhs.gov/programs/ocs/ under “Funding Opportunities.”

The Catalog of Federal Domestic Assistance (CFDA) number for this program is 93.602. The title is Assets for Independence Demonstration Program (IDA Program).

SUPPLEMENTARY INFORMATION: This program announcement consists of seven parts plus Attachments:

Part I: Background Information: legislative authority, program purpose, project goals, definition of terms, and program evaluation.

Part II: Program Objectives and Requirements: program priority areas, eligible applicants, project and budget periods, funds availability and grant amounts, project eligibility and requirements, non-Federal matching funds requirements, preferences, multiple applications, treatment of program income, and agreements with partnering financial institutions.

Part III: The Project Description, Program Proposal Elements and Review Criteria: purpose, project summary/abstract; objectives and need for assistance, results or benefits expected, approach, organizational profiles, budget and budget justification, non-Federal resources, and evaluation criteria.

Part IV: Application Procedures: application development/availability of forms, application submission, intergovernmental review, initial OCS screening, consideration of applications, and funding reconsideration.

Part V: Instructions for Completing Application Forms: SF-424, SF-424A, SF-424B.

Part VI: Contents of Application and Receipt Process: content and order of program application, acknowledgment of receipt.

Part VII: Post Award Information and Reporting Requirements: notification of grant award, attendance at technical assistance and evaluation workshops/conferences, reporting requirements, audit requirements, prohibitions and requirements with regard to lobbying, applicable Federal regulations.

Attachments: Application forms and required attachments.

Paperwork Reduction Act of 1995

Public reporting burden for this collection of information is estimated to average 10 hours per response, including the time for reviewing instructions, gathering and maintaining the data needed and reviewing the collection information.

The project description is approved under OMB control number 0970-0139 which expires 12/31/2003. An agency may not conduct or sponsor, and a person is not required to respond to, a collection of information unless it displays a currently valid OMB control number.

Part I. Background Information

A. Legislative Authority

The Assets for Independence Demonstration Program (IDA Program) was established by the Assets for Independence Act (AFI Act), under Title IV of the Community Opportunities, Accountability, and Training and Educational Services Act of 1998 (P.L. 105-285, 42 U.S.C. 604 Note), as amended.

B. Program Purpose

The purpose of the program is, in the language of the AFI Act: to provide for the establishment of demonstration projects designed to determine:

(1) The social, civic, psychological, and economic effects of providing to individuals and families with limited means an incentive to accumulate assets by saving a portion of their earned income;

(2) The extent to which an asset-based policy that promotes saving for postsecondary education, homeownership, and microenterprise development may be used to enable individuals and families with limited means to increase their economic self-sufficiency; and

(3) the extent to which an asset-based policy stabilizes and improves families and the community in which the families live.

There are some 300 IDA programs of various designs operating today in different communities across the country. Most are quite new and all are in the process of learning what design features work best with a variety of circumstances and target populations. Applicants are encouraged to contact these programs to see what might be learned from their experiences: what pitfalls to avoid, what successes might be emulated or adapted. An excellent source of information and discussion about existing IDA programs is the website operated by the Corporation for Enterprise Development (CFED), and its “IDA Learning Network” and related ListServe. These can be reached at www.idanetwork.org. In addition, the OCS Demonstration Division expects its website to be up in February 2001 at www.acf.dhhs.gov/programs/ocs/demo.

C. Project Goals

The ultimate goals of the projects to be funded under the Assets for Independence Demonstration Program are:

(1) To create, through project activities and interventions, meaningful asset accumulation opportunities for households eligible for Temporary Assistance for Needy Families (TANF) and other eligible individuals and working families.

(2) To evaluate the projects to demonstrate the effectiveness of these activities and interventions and of the project designs through which they were implemented, and the extent to which an asset-based program can lead to economic self-sufficiency of members of the communities served through one or more qualified expenses; and

(3) Thus to make it possible to determine the social, civic, psychological, and economic effects of providing to individuals and families with limited means an incentive to accumulate assets by saving a portion of their earned income, and the extent to which an asset-based policy stabilizes and improves families and the community in which the families live.

D. Definition of Terms

For the purposes of this Announcement:

(1) AFI Act means the Assets for Independence Act (Title IV of the Community Opportunities, Accountability, and Training and Educational Services Act of 1998, as amended) which authorizes this program.

(2) Custodial Account means an alternative structure to a Trust for the establishment of an Individual Development Account, as described in PART II, Section G(5).

(3) Eligible Individual means an individual who meets the income and net worth requirements of the program as set forth in PART II, Section G(3)(a) below.

(4) Emergency Withdrawal means a withdrawal of only those funds, or a portion of those funds, deposited by the eligible individual (Project Participant) in an Individual Development Account of such individual. Such withdrawal must be approved by the Project Grantee, must be made for an allowable purpose as defined in the AFI Act and under the Project Eligibility Requirements set forth in PART II of this Announcement, and must be repaid by the individual Project Participant within 12 months of the withdrawal. [See PART II, Section G(7)(b)]

(5) Household means all individuals who share use of a dwelling unit as primary quarters for living and eating separate from other individuals.

(6) Individual Development Account (IDA) means a trust or a custodial account created or organized in the United States exclusively for the purpose of paying the qualified expenses of an eligible individual, or enabling the eligible individual to make an emergency withdrawal, but only if the written governing instrument creating the trust or custodial account meets the requirements of the AFI Act and of the Project Eligibility and Requirements set forth in this Announcement. [See PART II, Section G(4) and (5).]

(7) Net Worth of a Household means the aggregate market value of all assets that are owned in whole or in part by any member of the household, exclusive of the primary dwelling unit and one motor vehicle owned by a member of the household, minus the obligations or debts of any member of the household.

(8) Project Grantee means a Qualified Entity as defined in paragraph (11) below, which receives a grant pursuant to this Announcement.

(9) Project Participant means an Eligible Individual as defined in paragraph (3) above who is selected to participate in a demonstration project by a qualified entity.

(10) Project Year means, with respect to a funded demonstration project, any of the 5 consecutive 12-month periods beginning on the date the project is originally awarded a grant by ACF.

(11) Qualified Entity means an entity eligible to apply for and operate an assets for independence demonstration project, under Priority Area 1.0, as one or more not-for-profit 501(c)(3) tax exempt organizations, or a State or local government agency or a tribal government submitting an application jointly with such a not-for-profit organization, or an entity that—

(I) is—

(a) a credit union designated as a low-income credit union by the National Credit Union Administration (NCUA); or

(b) an organization designated as a community development financial institution (CDFI) by the Secretary of the Treasury (or the Community Development Financial Institutions Fund); and

(II) can demonstrate a collaborative relationship with a local community-based organization whose activities are designed to address poverty in the community and the needs of community members for economic independence and stability.

(12) Qualified Expenses means one or more of the expenses for which payment may be made from an individual development account by a project grantee on behalf of the eligible individual in whose name the account is held, and is limited to expenses of (A) post-secondary education, (B) first home purchase, and/or (C) business capitalization, as defined below:

(A) Post-Secondary Educational Expenses means post-secondary educational expenses paid from an individual development account directly to an eligible educational institution, and includes:

(i) Tuition and Fees required for the enrollment or attendance of a student at an eligible educational institution.

(ii) Fees, Books, Supplies, and Equipment required for courses of instruction at an eligible educational institution, including a computer and necessary software.

(iii) Eligible Educational Institution means the following:

(I) Institution of Higher Education.—An institution described in Section 101 or 102 of the Higher Education Act of 1965.

(II) Post-Secondary Vocational Education School.—An area vocational education school (as defined in subparagraph (C) or (D) of section 521(4) of the Carl D. Perkins Vocational and Applied Technology Education Act (20 U.S.C. 2471(4)) which is in any State (as defined in section 521(33) of such Act) as such sections are in effect on the date of enactment of the AFI Act.

(B) First-Home Purchase means qualified acquisition costs with respect to a principal residence for a qualified first-time homebuyer, if paid from an individual development account directly to the persons to whom the amounts are due. Within this definition:

(i) Principal Residence means a main residence, the qualified acquisition costs of which do not exceed 120 percent of the average purchase price applicable to a comparable residence in the area.

(ii) Qualified Acquisition Costs means the cost of acquiring, constructing, or reconstructing a residence, including usual or reasonable settlement, financing, or other closing costs.

(iii) Qualified First-Time Homebuyer means an individual participating in the project involved (and, if married, the individual's spouse) who has no present ownership interest in a principal residence during the 3-year period ending on the date on which a binding contract is entered into for purchase of the principal residence to which this subparagraph applies.

(C) Business Capitalization means amounts paid from an individual development account directly to a business capitalization account that is established in a Qualified Financial Institution and is restricted to use solely for qualified business capitalization expenses of the eligible individual in whose name the account is held. Within this definition:

(i) Qualified Business Capitalization Expenses means qualified expenditures for the capitalization of a qualified business pursuant to a qualified plan, when so certified by a Qualified Entity (Grantee) as meeting the requirements of sub-paragraphs (ii), (iii), and (iv) below.

(ii) Qualified Expenditures means expenditures included in a qualified plan, including but not limited to capital, plant, equipment, working capital, and inventory expenses.

(iii) Qualified Business means any business that does not contravene any law or public policy (as determined by the Secretary).

(iv) Qualified Plan means a business plan, or a plan to use a business asset purchased, which—

(I) is approved by a financial institution, a microenterprise development organization, or a nonprofit loan fund having demonstrated fiduciary integrity;

(II) includes a description of services or goods to be sold, a marketing plan, and projected financial statements; and

(III) may require the eligible individual to obtain the assistance of an experienced entrepreneurial advisor.

(D) Transfers to IDAs of Family Members—Amounts paid from an individual development account directly into another such account established for the benefit of an eligible individual who is—

(i) the individual's spouse; or

(ii) any dependent of the individual with respect to whom the individual is allowed a deduction under section 151 of the Internal Revenue Code of 1986.

(13) Qualified Financial Institution means a Federally insured Financial Institution, or a State insured Financial Institution if no Federally insured Financial Institution is available.

(14) Qualified Savings of the Individual for the Period means the aggregate of the amounts contributed by an eligible individual from earned income to the individual development account of the individual during the period.

(15) Secretary means the Secretary of Health and Human Services, acting through the Director of the Office of Community Services.

(16) Tribal Government means a tribal organization, as defined in section 4 of the Indian Self-Determination and Education Assistance Act (24 U.S.C. 450b) or a Native Hawaiian organization, as defined in section 9212 of the Native Hawaiian Education Act (20 U.S.C. 7912).

(17) Trust Agreement means the instrument by which an Individual Development Account is established as a trust in the partnering Financial Institution under PART II Section G(4).

(18) Trustee means the Qualified Financial Institution responsible for management of an Individual Development Account established as a trust pursuant to a Trust Agreement.

E. Program Evaluation

Section 414 of the Assets for Independence Act requires that the Secretary enter into a contract with an independent research organization to evaluate the demonstration projects conducted under the Act, individually and as a group, including evaluating all qualified entities participating in and sources providing funds for the demonstration projects conducted under the AFIA Act. To support this evaluation, the AFIA also provides that not less than 2% of funds in the Reserve Fund be used by grantees to provide the independent research organization with such information regarding the demonstration project as may be required for the evaluation. The Secretary has contracted with Abt Associates, in Cambridge, Massachusetts, to carry out the required evaluation. OCS and ACF's Office of Planning, Research and Evaluation (OPRE) have worked together with the contractor in the development of an evaluation design whose implementation will get underway in the Spring of 2001.

Section 414 also lists the factors to be addressed by the research organization in its evaluation, which include:

(1) The effect of incentives and institutional support on savings behavior;

(2) The savings rates of individuals based on demographic characteristics and income;

(3) The economic, civic, psychological and social effects of asset accumulation and how such effects vary among different populations or communities;

(4) The effects of IDA's on savings rates, home ownership, level of post secondary education attained, and self-employment, and how such effects vary among different populations or communities;

(5) The potential financial returns to the Federal Government and to other public and private sector investors in IDA's over a 5 and 10 year period;

(6) The lessons to be learned from the demonstration projects and if a permanent program of IDA's should be established; and

(7) Such other factors as the Secretary may prescribe.

The section then stipulates that in evaluating any demonstration project under the AFIA, the research organization shall, before, during and after the project, obtain such quantitative data as are necessary to evaluate the program thoroughly. To this end OCS and its technical assistance contractor, PeopleWorks, Inc., have worked with OPRE and the research organization to develop a reporting format for AFIA grantees, and expect to make available to all grantees an Asset Development Information System to facilitate the maintenance, collection, verification and reporting of the data. In addition, section 414 directs that the research organization shall develop a qualitative assessment, derived from sources such as in-depth interviews, of how asset accumulation affects individuals and families.

Section 414 of the AFIA, as amended, further provides that of the funds appropriated for each Fiscal Year, beginning with FY 2001, $500,000 will be available to carry out the evaluation.

Part II. Program Objectives and Requirements

The Office of Community Services (OCS) invites qualified entities to submit competing grant applications for new demonstration projects that will establish, support, manage, and participate in the evaluation of Individual Development Accounts for eligible participants among lower income individuals and working families.

A. Program Priority Areas

There is one Program Priority Area under this program for Fiscal Year 2001: Priority Area 1.0, under which OCS will accept applications from Qualified Entities as described below and in Section G. Applications for continuation of grants funded under Priority Area 2.0 of the Fiscal Year 1999 Assets For Independence Program Announcement are not covered by this Program Announcement; but will be the subject of direct correspondence between OCS and the grantees.

B. Eligible Applicants

(1) In General. Eligible applicants for the Assets for Independence Demonstration Program Priority Area 1.0 are one or more not-for-profit 501(c)(3) tax exempt organizations, or a State or local government agency or a tribal government submitting an application jointly with such a not-for-profit organization, or an entity that—

(I) is—

(a) a credit union designated as a low-income credit union by the National Credit Union Administration (NCUA); or

(b) an organization designated as a community development financial institution by the Secretary of the Treasury (or the Community Development Financial Institutions Fund); and

(II) can demonstrate a collaborative relationship with a local community-based organization whose activities are designed to address poverty in the community and the needs of community members for economic independence and stability.

Not-for-profit Applicants, including those filing jointly with government agencies or Tribal Governments, must provide documentation of their tax exempt status. The applicant can accomplish this by providing a copy of the applicant's listing in the Internal Revenue Service's (IRS) most recent list of tax-exempt organizations described in Section 501(c)(3) of the IRS code or by providing a copy of their currently valid IRS tax exemption certificate. Failure to provide evidence of Section 501(c)(3) tax exempt status will result in rejection of the application. Similarly, eligible credit unions and CDFI's must provide written documentation of their status and evidence of their collaborative relationship with an appropriate local community-based organization.

(2) Applications Submitted Jointly by State or Local Government Agencies or Tribal Governments and Tax Exempt Non-Profit Organizations. Joint applications by government agencies and non-profit organizations must clearly identify the joint applicants; and the SF-424 Application for Federal Assistance must be signed by one of the joint applicants. The applicant signing the SF-424 will be responsible for proper implementation of the grant in accordance with the approved work program and the terms and conditions of the grant. (It may be either the government agency applicant or a non-profit applicant). In either case, a Reserve Fund must be established for the Project by a non-profit Joint Applicant, and maintained and managed as agreed by the Joint Applicants. The Reserve Fund must be established in accordance with Section G, Paragraphs (1) and (2), below; and where the project includes a group or consortium of operating partners, may include both a central and local Reserve Funds as described there. Such joint applications must also include:

(a) Proof of tax exempt status of the non-profit Joint Applicant, as described in Paragraph (1), above; and

(b) A Joint Applicant Agreement, signed by the responsible officials of both Joint Applicants, setting forth the responsibilities of each Joint Applicant for implementation of the proposed project, including management and oversight of the Reserve Fund and carrying out of the project activities and interventions described in Element II of the proposal narrative. (See PART III, below.) The Joint Applicant Agreement should be the first Appendix to the Application, and the responsibilities it sets out should be described in the Project Narrative under Elements I and II, PART III, Section I Evaluation Criteria (below).

(3) Applications Submitted by a Lead Agency on Behalf of a Consortium of Partnering Organizations. Where the Applicant is applying as the lead agency for a consortium or group of partnering organizations, each of these organizations must be briefly described in the Application, and background materials citing their relevant experience and staff capabilities should be included in the Appendix. In such cases the Applicant should document its capability and experience in managing such consortia, and the roles and responsibilities of all participating agencies should be clearly set forth in signed Partnering Agreements between the Applicant and each of the partnering members. Copies of the Partnering Agreements should be included in the Appendix, and the roles and responsibilities of each participating agency clearly explained in PART III, Element I and Element II(b), Project Design, and reflected in the Work Plan under Element II(d). These explanations must include the plans for establishing one or more Reserve Fund(s), and how and where IDA Accounts and Parallel Match Accounts will be maintained, as reflected in the Financial Institution Agreement(s)/Statement of Policy under PART III, Element II(c). (See also Section G. Paragraph (1), and Section M, below.)

C. Project and Budget Periods Under Priority Area 1.0

This announcement is inviting applications under Priority Area 1.0 for project and budget periods of five (5) years. Grant actions, on a competitive basis, will award funds for the full five year project and budget period. As noted below in Section E., subject to the availability of funds, grantees may be offered the opportunity to submit applications for supplementary funding in later years during the five-year project.

Note: Applicants should be aware that OCS funds awarded pursuant to this Announcement will be from FY 2001 funds and may not be expended after the end of the five-year Project/Budget Period to support administration of the project or matching contributions to Individual Development Accounts which may be open at that time. Consequently, Applicants should consider carefully the length of time participants will need to achieve their savings goals and at what point in the project they may wish to discontinue the opening of new accounts. Consequently, and as noted below, deposit of non-Federal share funds needs to be carried out on a schedule consistent with the planned schedule of new account opening. Applicants should provide assurance that in every case provision will be made for payment of all promised matching deposits to IDA accounts opened by project participants in the course of the demonstration project.

D. Funds Availability and Grant Amounts Under Priority Area 1.0

For the second round of competitive funding in Fiscal Year 2001 OCS expects approximately $6 million to be available under Priority Area 1.0 for funding commitments for up to 20 new projects, not to exceed $1,000,000 each for the five-year project and budget periods. Applicants are reminded that grant awards are limited to the amount of committed non-Federal cash matching contributions; and that OCS recognizes that this is a limiting factor in the amount of grant funds requested. Applicants are assured that OCS will welcome requests for less than the maximum grant amounts, and are urged to make realistic projections of project activity over the five year project and propose project budgets accordingly. Draw-down of grant funds over the five-year budget period may be made in amounts that will match non-Federal deposits into the Project Reserve Fund. (See Section G. Paragraph (2) and Section I, below).

E. Funds Availability for Supplementing FY 1999 and 2000 Grantees

Inasmuch as this is the second Program Announcement for FY 2001 funding, it contains no provision for supplemental funding of FY 1999 and 2000 grantees. Rather, the awarding of grants for supplemental funding of existing grantees will be in accordance with funds availability as set forth in the original FY 2001 Assets for Independence Program Announcement published February 27, 2001.

F. Funds Availability and Grant Amounts for Continuation Funding of Grandfathered State Grantees (FY 1999 Priority Area 2.0 Grantees: Indiana and Pennsylvania)

In Fiscal Year 2001 up to approximately $2 million is expected to be available under Priority Area 2.0 for up to two continuation grants not to exceed $1 million each for the third budget year of a five-year State project funded under Priority Area 2.0 of the FY 1999 Assets for Independence Program Announcement. Any funds not expended in FY 2001 for these Continuation Grants will be available for project grants under Priority Area 1.0 or for supplementary grants as described above in Paragraph E.

G. Project Eligibility and Requirements under Priority Area 1.0

To be eligible for funding under Priority Area 1.0, projects must be sponsored and managed by Qualified Entities and must meet the following requirements:

(1) Reserve Fund. Every project funded under this Announcement must establish and maintain a Reserve Fund in accordance with this paragraph. Such Reserve Fund must be maintained in accordance with the accounting regulations prescribed by the Secretary (See Attachment “L” to this Announcement), in a Qualified Financial Institution or other insured financial institution satisfactory to the Secretary.

Note: Where an applicant is lead agency for a consortium or group of partnering organizations, each of which will be implementing an IDA program under the Applicant's grant pursuant to this Announcement, the Applicant/lead agency must maintain a Reserve Fund into which all required non-Federal share matching contribution funds and OCS grant funds shall be deposited in accordance with sub-Paragraph (a). The consortium has two alternatives for maintenance of Reserve Fund(s) in its IDA programs: First, participating organizations may all operate out of the one central Reserve Fund maintained by the Applicant/lead agency. In this case separate accounting structures would be maintained for each of the organizations and the funds assigned for their use in accordance with agreements between the Applicant and each organization. Or second, in addition to the Central Reserve Fund, participating organizations may each establish a local Reserve Fund in their community into which the Applicant/lead agency will deposit from the Central Reserve Fund the funds (grant and non-Federal share) allocated for use by the particular organization. Central and local Reserve Funds will be subject to all of the requirements of this Section. Whatever the arrangement, it must be spelled out and agreed to in the Partnering Agreements required under Section B. Paragraph (3) between the Applicant and each consortium member.

(a) Amounts in the Reserve Fund. As soon after receipt as is practicable, grantees shall deposit in the Reserve Fund the non-Federal matching contributions received pursuant to the “Non-Federal Share Agreement” or Agreements reached with the provider(s) of non-Federal matching contributions. Once such non-Federal funds are deposited in the Reserve Fund, grantees may draw down OCS grant funds in amounts equal to such deposits. Similarly, as soon after receipt as practical, grantees shall deposit in the Reserve Fund the income received from any investment made of those funds (see paragraph (d) below).

(b) Use of Amounts in the Reserve Fund. Grantees shall use the amounts in such Reserve Fund as follows:

(A) at least 85% of the federal grant funds, and an equal amount of the required non-Federal share funds, shall be used as matching contributions, equally divided between federal and non-federal monies, to individual development accounts for project participants, in an agreed upon ratio to deposits made in those accounts by project participants from earned income.

(B) at least 2% but no more than 15% of the Federal grant funds shall be used toward the expense of collecting and providing to the research organization evaluating the demonstration project the data and information required for the evaluation.

(C) up to 7.5% of the Federal grant funds may be used for administration of the demonstration project and, and an additional 5.5% shall go toward non-administrative support expenses of assisting project participants to obtain the skills (including economic literacy classes, budgeting, and business management skills), training, and information necessary to achieve economic self-sufficiency through activities requiring qualified expenses. If the cost of such non-administrative support expenses is less than 5.5% of the Federal grant funds, then any unused portion may be used for administrative expenses.

(D) up to 15% of the required matching non-Federal funds may be used for expenses outlined in Paragraphs (B) and (C), above, or other project-related expenses as agreed by the Applicant and the providing entity.

Note: If a grantee mobilizes matching non-Federal contributions in excess of the required 100 percent match, such non-Federal funds may be used however the grantee and provider of the funds may agree. Where the use of such funds is proposed within a Program Element/Proposal Review Criterion which formed the basis for the grant award, Grantees will be held accountable for commitments of such excess matching funds and additional resources, even though over the amount of the required non-Federal match.

(c) Authority to Invest Funds. A grantee shall invest the amounts in its Reserve Fund that are not immediately needed for payment under paragraph (b), in a manner that provides an appropriate balance between return, liquidity, and risk, and in accordance with Guidelines which will be issued by the Secretary prior to making of grant awards and provided to grantees at the time of grant award.

(d) Use of Investment Income. Income generated from investment of Reserve Fund monies that are not allocated to existing Individual Development Accounts may be added by grantees to the funds committed to program administration, participant support, or evaluation data collection. As noted in Paragraph M, below, once funds have been committed as matching contributions to Individual Development Accounts, then any income subsequently generated by such funds must be deposited/credited to the credit of such accounts.

Note: No part of such income is to be considered as a Federal funds contribution subject to the $2000/$4000 limitations under Paragraph (5)(b), below.

(e) Joint Project Administration. If two or more qualified entities are jointly administering a project, none shall use more than its proportional share for the purposes described in subparagraphs (B) and (C), of paragraph (b).

(2) Use of Grant Funds by State and Local Government Agencies and Tribal Governments. As set forth in Section B. Paragraph (2) above, grantees who are State or local government agencies or Tribal governments are required to submit applications jointly with tax exempt non-profit organizations. In such cases, whether the lead applicant signing the SF-424 is the government agency or the non-profit organization, a Reserve Fund must be established for the Project by the non-profit Joint Applicant and maintained and managed as agreed by the Joint Applicants. The Reserve Fund shall be subject to the requirements of Paragraph (1) above, and Section I, below.

(3) Eligibility and Selection of Project Participants.

(a) Participant Eligibility. Eligibility for participation in the demonstration projects is limited to individuals who are members of households eligible for assistance under TANF, or of households whose adjusted gross income does not exceed the earned income amount described in Section 32 of the Internal Revenue Code of 1986, which establishes eligibility for the Earned Income Tax Credit (EITC)(taking into account the size of the household), or of households whose annual income does not exceed 200% of the poverty line, as provided in Section 408(a)(1) of the AFI Act, as amended; and whose net worth as of the end of the calendar year preceding the determination of eligibility does not exceed $10,000, excluding the primary dwelling unit and one motor vehicle owned by a member of the household.

Note: The most recent EITC Earned Income Guidelines which set the limits on annual income for eligibility in the IDA Program are as follows:

—For a household without a child: $10,380

—For a household with one child: $27,413

—For a household with more than one child: $31,152

Applicants are reminded that there is also a net worth assets test for eligibility in the program, as noted above.

(b) Participant Selection. In keeping with the statutory preference in Section 405(d)(3) of the AFI Act for applications that target individuals from neighborhoods or communities that experience high rates of poverty or unemployment, grantees in their selection of Project Participants may restrict participation in such neighborhoods or communities targeted by their demonstration projects to individuals and households with lower incomes and net worth than set forth above, provided that they shall nonetheless select individuals who they determine are well suited to participate in the demonstration project.

(4) Establishment of Individual Development Accounts. Project Grantees must create, through written governing instruments, either (a) Trusts, under this paragraph, or (b) Custodial Accounts described in Paragraph (5) below, which will be Individual Development Accounts on behalf of Project Participants. Trustees of Trusts must be Qualified Financial Institutions. Custodians of Custodial Accounts may be Qualified Financial Institutions, other insured financial institutions satisfactory to the Secretary, or Demonstration Project Grantees. In every case the Participant's personal savings from earned income shall be deposited in the Participant's Individual Development Account in a participating insured financial Institution, which in the case of Qualified Entities which are eligible Credit Unions or CDFI's, may be the Qualified Entity itself. In every case where the participating insured financial institution and the Demonstration Project Grantee are not one and the same, both shall be parties to the written governing instruments creating the Trust or Custodial Account. Such instruments must contain the following provisions:

(a) All contributions to the accounts must be either in cash, by check, money order, or by electronic transfer of funds.

(b) The assets of the account will be invested in accordance with the direction of the Project Participant after consultation with the grantee and pursuant to the guidelines of the Secretary (which will be issued prior to the making of grant awards and made available to grantees at the time of grant award).

(c) The assets of the account will not be commingled with other property except in a common trust fund or parallel account or common investment fund.

(d) In the event of the death of the Project Participant, any balance remaining in the account shall be distributed within 30 days of the date of death to another Individual Development Account established for the benefit of an eligible individual as directed by the deceased Participant in the Savings Plan Agreement under sub-paragraph (g), below; provided, that the Participant may at their option direct the disposition of any funds in the account which were deposited in the account by the Participant as he or she may see fit, except that where such disposition is not to another Individual Development Account, all matching contributions made by the grantee to the account, and any income earned thereby, shall be returned to the Reserve Fund. [Note that this will mean that each Project Participant must provide such direction at the time the Individual Development Account is established. Provision should be made by grantees for modification of such directions during the course of the project, in the event of changing circumstances.]

(e) Except in the case of the death of the Project Participant, amounts in the account attributable to deposits by the grantee from grant funds and matching non-federal contributions, and any interest thereon, may be paid, withdrawn or distributed out of the account only for the purpose of paying qualified expenses of the Project Participant including transfers under Paragraph (7)(d), below).

(f) The procedures governing the withdrawal of funds from the Individual Development Account, for both Qualified Expenses and Emergency Withdrawals, must comply with the provisions of Paragraph (7) Withdrawals from Individual Development Accounts, below.

(g) a “Savings Plan Agreement” between the grantee and the Project Participant, which may be incorporated by reference, and which should include: (1) Savings goals (including a proposed schedule of savings deposits by the Participant from earned income, which may be for a period of less than five years); (2) the rate at which participant savings will be matched (from one dollar to eight dollars for each dollar in savings deposited by Participant, the Federal grant funds portion of which may not exceed $2000 during the five-year project period); (3) the proposed qualified expense for which the Account is maintained, (4) agreement by the grantee to provide and the Participant to attend classes in Economic Literacy; (5) any additional training or education related to the qualified expense which the Grantee agrees to provide and of which the Participant agrees to partake, (6) contingency plans in the event that the Participant exceeds or fails to meet projected savings goals or schedules, (7) any agreement as to investments of assets described in subparagraph (b), above, (8) an explanation of withdrawal procedures and limitations, including the consequences of unauthorized withdrawal, (9) provision for disposition of the funds in the account in the event of the Participant's death (see sub-Paragraph (d), above; and (10) provision for amendment of the Agreement with the concurrence of both Grantee and Participant.

(5) Custodial Accounts. As provided in Paragraph (4), above, Grantees may, in the alternative, create, through written governing instruments, Custodial Accounts which shall be Individual Development Accounts on behalf of Project Participants, except that they will not be trusts. As in the case of trusts established under paragraph (4), the written governing instruments of the accounts must contain the requirements outlined in subparagraphs (a) through (g) of that paragraph, with the following exceptions. Whereas trustees of the trusts created under Paragraph (4) must be Qualified Financial Institutions, the assets of the custodial account may be held by a bank or another “person” (or institution) who demonstrates to the satisfaction of the Secretary that the manner in which the account will be administered will be consistent with the provisions of the AFI Act, and that the IDA's will be created and maintained as described in paragraph (4) and Section 404(5)(A) of the AFI Act. In addition, in the case of a custodial account treated as a trust by reason of this paragraph, the custodian of such account may be the Project Grantee, provided that it can assure compliance with the requirements of Paragraph (4) above, and Section 404(5)(A) of the AFI Act. These arrangements would place the “custodial” responsibilities with the grantee, and relieve financial institutions of trustee obligations. The Secretary has determined that the assets of any such accounts must be held in an insured financial institution and be subject to the provisions of Paragraph M, below, pertaining to agreements between applicants/grantees and participating financial institutions.

Within the meaning of this OCS Program Announcement, IDA “Custodial Accounts” in which project participants deposit their savings may be solely owned by the participant and in the sole name of the participant. Funds in the account may only be expended for “Qualified Expenses” or an “Emergency Withdrawal” as defined in the AFIA and this Program Announcement; and in keeping with this restriction, any withdrawals must be approved in writing by a responsible official of the project grantee. At the same time, if the participant requests approval for an “unauthorized withdrawal”, that is, for other than a “Qualified Expense” or “Emergency Withdrawal” as defined in the AFIA, and Part I, Section D (4) and (12), above, the project grantee must agree to approve such an “Unauthorized Withdrawal”, with the explicit understanding on the part of both the grantee and the participant, that the participant thereby loses any matching funds credited to the account, and must exit the program.

(6) Deposits in Individual Development Accounts.

(a) Matching Contributions. Not less than once every three months during the demonstration project grantees will make deposits into Individual Development Accounts as matching contributions to deposits from earned income made by Project Participants during the period since the previous deposit. Such deposits may be made either into the accounts themselves or into a parallel account maintained by the grantee in an insured financial institution (or in the grantee institution itself, in the case of grantees which are eligible Credit Unions or CDFI's).

Note: Deposits made by Project Participants shall be deemed to have been made from earned income so long as the Participant's earned income (as defined in Section 911(d)(2) of the Internal Revenue Code of 1986) during the period since the Participant's previous deposit in the account is greater than the amount of the current deposit. Section 911(d)(2) provides, in relevant part, “the term ‘earned income' means wages, salaries, or professional fees, and other amounts received as compensation for personal services actually rendered”.

Matching contributions (as deposits to IDA accounts or to parallel accounts) must be made to IDA's in equal amounts from Federal grant funds and the non-Federal public and private funds committed to the project as matching contributions, as described in Section I below, and Sections 405(c)(4) and 406(b)(1) of the AFI Act. Such matching contribution deposits by grantees may be from $0.50 to $4 in non-Federal funds and an equal amount in Federal grant funds, for each dollar of earned income deposited in the account by the Project Participant in whose name the account is established. At the time matching contribution deposits are made, the grantee will also deposit into the Individual Development Account (or the parallel account) any interest or income that has accrued since the last deposit on amounts previously deposited in or credited to that IDA in the parallel account.

(b) Additional Matching Contributions. Once such equal matching contribution deposits are made, grantees may make additional matching contributions to IDA's from other non-Federal sources, or other Federal sources, such as TANF, where the legislation or policies governing such programs so permit. Such additional matching contributions would not be a use of funds falling within any Program Element/Proposal Review Criterion under Part III below, which formed the basis for the grant award, and as such, grantees will not be held accountable for their commitment to the project.

(c) Limitations on Matching Contributions. Over the course of the five year demonstration, not more than $2,000 in Federal grant funds shall be provided through matching contributions to any one individual; and not more than $4,000 shall be provided to IDA's in any one household. [As noted in Paragraph (1)(d), above, no part of any investment income earned by monies in the Reserve Fund or a parallel account credited to the Participant is to be considered as a Federal funds contribution subject to this limitation.]

(7) Withdrawals from Individual Development Accounts.

(a) Limitations. Under no circumstances may funds be withdrawn from an Individual Development Account earlier than six months after the initial deposit by a Project Participant in the Account. Thereafter funds may be withdrawn from such account only upon written approval of the Project Participant and of a responsible official of the project grantee, and only for one or more Qualified Expenses (as defined in Part I) or for an Emergency Withdrawal.

(But see Paragraph (5) Custodial Accounts, above, for the Participant's right to make “unauthorized withdrawals” and the consequences thereof.)

(b) Emergency Withdrawals. An Emergency Withdrawal may only be of those funds, or a portion of those funds, deposited in the account by the Project Participant, and only for the following purposes:

(i) expenses for medical care or necessary to obtain medical care for the Project Participant or a spouse or dependent of the Participant;

(ii) payments necessary to prevent eviction of the Project Participant from, or foreclosure on the mortgage for, the principal residence of the Participant;

(iii) payments necessary to enable the Project Participant to meet necessary living expenses (food, clothing, shelter—including utilities and heating fuel) following loss of employment.

(c) Reimbursement of Emergency Withdrawals. A Project Participant shall reimburse an Individual Development Account for any funds withdrawn from the account for an Emergency Withdrawal, not later than 12 months after the date of the withdrawal. If the Participant fails to make the reimbursement, the Project Grantee must transfer back to its Reserve Fund Federal and non-Federal matching contributions deposited into the account or a parallel account, and any income generated thereby. Any remaining funds deposited by the Project Participant (plus any income generated thereby) shall be returned to such Project Participant.

Applicants are urged to consider the establishment of a separate alternative crisis or emergency loan fund that can respond to participant emergencies without having them risk putting their IDA in jeopardy because of an inability to make reimbursement within the required timeframe.

(d) Transfers to Individual Development Accounts of Family Members. At the request of a Project Participant, and with the written approval of a responsible official of the grantee, amounts may be paid from an individual development account directly into another such account established for the benefit of an eligible individual who is—

(i) the Participant's spouse, or

(ii) any dependent of the Participant with respect to whom the Participant is allowed a deduction under section 151 of the Internal Revenue Code of 1986.

Note that such transfers may be made to dependents who in turn would become IDA project participants who would be able to use these funds for any of the Qualified Expenditures defined in Part I. Applicants are reminded of the limit of $4000 in Federal IDA matching contributions per household.

H. Project Eligibility and Requirements under Priority Area 2.0

As previously noted in Part II Section A, there is no Priority Area 2.0 under this Announcement. Applications for continuation of grants funded under Priority Area 2.0 of the Fiscal Year 1999 Assets For Independence Program Announcement will be the subject of direct correspondence between OCS and the grantees.

I. Non-Federal Matching Funds Requirements

Applicants must obtain firm commitments for at least one hundred percent of the requested OCS grant amount in cash non-Federal share. These firm commitments of non-Federal share will be accepted as valid as long as they are provided to ACF/OCS no later than September 1, 2001. Public sector resources that can be counted toward the minimum required match include funds from State and local governments, and funds from various block grants allocated to the States by the Federal Government provided that the authorizing legislation for these grants permits such use. Note, for example, that Community Development Block Grant (CDBG) funds may be counted as matching funds; Community Services Block Grant (CSBG) FUNDS MAY NOT. With regard to State TANF funds, any State funds that comprise Maintenance Of Effort (MOE) under the TANF regulations may NOT be used as required non-Federal share under this Announcement. (But see discussion of Additional Matching Contributions in Paragraph (6)(a), above.)

To be considered for funding an Application must include a copy of an executed “Non-Federal Share Agreement” or a “Statement of Commitment”, as described below, or a statement that the Applicant intends to provide to ACF/OCS, no later than September 1, 2001, a copy of such a “Statement”, or of a “Non-Federal Share Agreement” or Agreements in writing executed by the Applicant and the organization or organizations providing the required non-Federal matching contributions, signed for the organization by a person authorized to make a commitment on behalf of the organization, and signed for the Applicant by the person signing the SF-424. Such Agreement(s) must include: (1) A commitment by the organization to provide the non-Federal funds contingent only on the grant award; and (2) an agreement as to the schedule of the opening of Individual Development Accounts by the Applicant, and the schedule of deposits by the organization to the project's Reserve Fund, such that the two schedules will together assure that there will be at all times in the Reserve Fund non-Federal matching contribution funds sufficient to meet the maximum pledges of matching contributions under the “Savings Plan Agreements” for all Individual Development Accounts then open and being maintained by the grantee as part of the demonstration project.

Thus, for example, if the provider of non-Federal share only agrees to a fixed schedule of deposits, this non-Federal share requirement can be met by the Applicant agreeing to a similar schedule for opening new accounts that will assure that new IDA accounts will only be opened when there are sufficient funds in the Reserve Fund to meet the maximum amount of matching contributions pledged under the “Savings Plan Agreements”.

As noted above, the Applicant may itself commit to providing the required cash non-Federal share, by including a Statement of Commitment, on applicant letterhead, signed by the official signing the SF-424 and countersigned by the Applicant's Board Chairperson or Treasurer, that the non-Federal matching funds will be provided, contingent only on the OCS grant award, and that non-Federal share deposits to the Reserve Fund and the opening of Individual Development Accounts will be coordinated so that new accounts will only be opened when there are sufficient funds in the Reserve Fund to cover the maximum matching requirements of the Savings Plan Agreements. As with the “Non-Federal Share Agreement”, such a Statement of Commitment by the applicant will be accepted as valid so long as it is provided to ACF/OCS no later than September 1, 2001.

With regard to Applicants which are State or local government agencies or Tribal governments, submitting jointly with tax exempt non-profit organizations, note that under Section G Paragraphs (1) and (2), above, Reserve Funds are required to be established as in other applications/projects.

OCS has determined that the strict legislative limitations on the use of Federal grant funds and of the minimum required non-Federal match (under the recent amendments to the AFIA, at least 85% of each must go toward matching deposits in Individual Development Accounts) mean that important training, counseling and support activities, critical to the success of a project, may best be supported by additional resources, both of the applicant itself and mobilized by the applicant in the community. Consequently, Applicants are encouraged to mobilize additional resources, which may be cash or in-kind contributions, Federal or non-Federal, for support of project administration and assistance to Project Participants in obtaining skills, knowledge, and needed support services. (See PART III, Element V) Applicants are reminded that they will be held accountable for commitments of such additional resources even if over the amount of the required non-Federal match.

J. Preferences

In accordance with the provisions of the AFI Act, in considering an application to conduct a demonstration project under this Announcement, OCS will give preference to an application that:

(1) demonstrates the willingness and ability of the applicant to select eligible individuals for participation in the project who are predominantly from households in which a child (or children) is living with the child's biological or adoptive mother or father, or with the child's legal guardian.

Note: Applications that target TANF eligible households will be deemed to have met this preference.

(2) provides a commitment of non-Federal funds with a proportionately greater amount of such funds committed from private sector sources; and

(3) targets individuals residing within one or more relatively well-defined neighborhoods or communities (including rural communities) that experience high rates of poverty or unemployment.

Note: Applications which target residents of Empowerment Zones, Enterprise Communities, Public Housing, or CDFI Fund-designated Distressed Communities will be deemed to have met this preference. (For information on CDFI Fund designation of Distressed Communities applicants may visit the CDFI Help Desk Website at: http://www.cdfifundhelp.gov.)

Each of these preferences will be valued at 2 points in the Application Review process, so that applicants not meeting these preferences will have 2 points subtracted from its score for a given Proposal Element for each preference not met. [Preferences (1) and (3) fall under Proposal Element II(a); Preference (2) falls under Proposal Element V(a)]. In the case of a consortium of organizations operating programs funded through a lead agency, if a majority of the participating organizations meet these legislative preferences, the Application as a whole will be awarded these points.

K. Multiple Applications

Qualified Entities may submit more than one application for different demonstration projects, but no more than one such application will be funded to the same Qualified Entity pursuant to this Announcement.

L. Treatment of Program Income

As noted in Section G Paragraph (1)(d), above, income generated from investment of unallocated funds in the Reserve Fund may be added to the funds already committed from the Reserve Fund to program administration, participant support, or evaluation data collection. However, once funds have been committed as matching contributions to Individual Development Accounts, then any income subsequently generated by such funds must be deposited proportionately to the credit of such accounts.

Note: No part of such income is to be considered as a Federal funds contribution subject to the $2000/$4000 limitations under Section G Paragraph (6)(c), above.

M. Agreements With Partnering Financial Institutions/Statements of Policy.

One of the most critical parts of a successful IDA project is the relationship between the project operator and a partnering financial institution, be it a bank or credit union. Not only does the financial institution provide the situs of the Individual Development Accounts, but it also represents for IDA holders their doorway to mainstream economic life: savings and checking accounts, ATM machines, payroll deduction savings, home mortgages, and the opportunity for credit repair, student and business loans, all within a framework of sound financial planning. Moreover, many banks see non-Federal share contributions to the project's Reserve Fund as sound investments which not only offer them tax deductions and CRA credit, but also introduce them to a whole new body of potential long-term clients.

For all these reasons it is vitally important for applicants to develop strong and mutually supportive relationships with the financial institutions which will be their partners in carrying out the IDA project. Thus, all applicants under this Announcement must enter into agreements with one or more insured Financial Institutions, in collaboration with which Reserve Funds and Individual Development Accounts will be established and maintained. [For applicants which are eligible Credit Unions or CDFI's, see Note at end of this Section, below.]

To be considered for funding, an Application submitted by other than an eligible Credit Union or Community Development Financial Institution must include a copy of an Agreement or Agreements with one or more partnering insured Financial Institutions which include(s) the provisions set out in PART III Element II(c), which state(s) that the accounting procedures to be followed in account management will conform to Guidelines (CFR Part 74) established by the Secretary (Note: Such regulations may be found as Attachment “L” to this Announcement.), and under which the partnering insured Financial Institution agrees to provide data and reports as requested by the applicant. In the case of IDA's established as Trusts under Section G Paragraph (4), above, the partnering financial institution must be a Qualified Financial Institution as defined in PART I Section D(12). In the case of IDA's established as Custodial Accounts, the partnering financial institution must be insured and must meet the requirements of Section G Paragraph (5), above, to the satisfaction of the Secretary. [For applications submitted by eligible Credit Unions or Community Development Financial Institutions (CDFI's) see Note below.]

The Agreement may also include other services to be provided by the partnering Financial Institution that could strengthen the program, such as Financial Education Seminars, favorable pricing or matching contributions provided by the Financial Institution, and assistance in recruitment of Project Participants. Strong and complete Agreements with financial institutions will be recognized in the application review process under Sub-Element II(c) of the application Evaluation Criteria under Part III, below.

Note: In the case of applications submitted by eligible Credit Unions or Community Development Financial Institutions, where the Reserve Fund and IDA accounts are to be held by the applicant Institution itself, the applicant must submit, in lieu of a Financial Institution Agreement, a Statement of Policy, approved by its Board of Directors and attested to by its Chairperson and Chief Financial Officer, which meets the requirements set forth in this section (M.) and in Part III Sub-Element II(c). This Statement of Policy will be considered in the application review process under Sub-Element II(c). Where such applicants are proposing the establishment of Reserve Fund(s) or IDA's in other partnering Financial Institutions, they must submit as part of their applications copies of Agreements with such Partnering Financial Institution(s) in accordance with this section (M.).

Part III. The Project Description, Program Proposal Elements and Review Criteria

A. Purpose

The project description provides the major means by which an application is evaluated and ranked to compete with other applications for available assistance. The project description should be concise and complete and should address the activity for which Federal funds are being requested. Supporting documents should be included where they can present information clearly and succinctly. Applicants are encouraged to provide information on their organizational structure, staff, related experience, and other information considered to be relevant. Awarding offices use this and other information to determine whether the applicant has the capability and resources necessary to carry out the proposed project. It is important, therefore, that this information be included in the application. However, in the narrative the applicant must distinguish between resources directly related to the proposed project from those that will not be used in support of the specific project for which funds are requested.

B. Project Summary/Abstract

Provide a summary of the project description (a page or less) with reference to the funding request.

C. Objectives and Need for Assistance

Clearly identify the physical, economic, social, financial, instructional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

D. Results or Benefits Expected

Identify the results and benefits to be derived. For example, describe the population to be recruited to the IDA program, how many accounts are projected to be opened, what qualified expenses are expected to be achieved, and how they will assist participants to move towards self-sufficiency.

E. Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of accounts opened. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF'.

List organizations, cooperating entities, consultants, or other key individuals who will work on the project along with a short description of the nature of their effort or contribution.

F. Organization Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission. The non-profit agency can accomplish this by providing a copy of the applicant's listing in the Internal Revenue Service's (IRS) most recent list of tax-exempt organizations described in Section 501(c)(3) of the IRS code, or, by providing a copy of the currently valid IRS tax exemption certificate, or, by providing a copy of the articles of incorporation bearing the seal of the State in which the corporation or association is domiciled.

G. Budget and Budget Justification

Provide a line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how categorical costs are derived. Discuss the necessity, reasonableness, and allocability of the proposed costs.

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and subrecipients, other than States that are required to use Part 92 procedures, must justify any anticipated procurement action that is expected to be awarded without competition and exceed the simplified acquisition threshold fixed at 41 U.S.C. 403(11) (currently set at $100,000.) Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

H. Non-Federal Resources

Amounts of non-Federal resources that will be used to support the project as identified in Block 15 of the SF-424. The firm commitment of these resources must be documented and submitted with the application in order to be given credit in the review process. A detailed budget must be prepared for each funding source.

I. Evaluation Criteria

Proposal Elements and Review Criteria for Applications

Each application which passes the initial screening will be assessed and scored by three independent reviewers. Each reviewer will give a numerical score for each application reviewed. These numerical scores will be supported by explanatory statements on a formal rating form describing major strengths and weaknesses under each applicable criterion published in the Announcement. Scoring will be based on a total of 100 points, and for each application will be the average of the scores of the three reviewers.

The competitive review of proposals will be based on the degree to which applicants:

(1) Adhere to the requirements in PART II and incorporate each of the Elements and Sub-Elements below into their proposals, so as to:

(2) Describe convincingly a project that will develop new asset accumulation opportunities for households eligible for TANF and other eligible individuals and working families that can lead to a transition from dependency to economic self-sufficiency through the accumulation of assets and the pursuit of activities requiring one or more qualified expenses; and

(3) Provide for the collection and validation of relevant data to support the national evaluation to be carried out by the independent research organization, under contract with ACF, of the project design, implementation, and outcomes of this Demonstration Program.

In order to simplify the application preparation and review process, OCS seeks to keep grant proposals cogent and brief. Applications with project narratives (excluding Project Summaries, Budget Justifications and Appendices) of more than 30 letter-sized pages of 12 c.p.i. type or equivalent on a single side will not be reviewed for funding.

Applicants should prepare and assemble their project description using the following outline of required project elements. They should, furthermore, build their project concept, plans, and application description upon the guidelines set forth for each of the project elements.

Project descriptions are evaluated on the basis of substance, not length. Pages should be numbered and a table of contents should be included for easy reference. For each of the Project Elements or Sub-Elements below there is at the end of the discussion a suggested number of pages to be devoted to the particular element or sub-element. These are suggestions only; but the applicant must remember that the overall Project Narrative must not be longer than 30 pages.

Evaluation Criteria 1: Organizational Profiles

Element I. Organizational Experience and Administrative Capability; Ability to Assist Participants. (0 to 20 points)

Criterion: The capability and relevant experience of the applicant and its partners and collaborators in developing and operating programs which deal with poverty problems similar to those to be addressed by the proposed project. Applicants should include their experience and capability in providing supportive services to TANF recipients and other low income individuals and working families seeking to achieve economic stability and self-sufficiency; and in recruiting, educating, and assisting project participants to increase their economic independence and general well-being through economic literacy education and the accumulation of assets.

Applications should briefly cite a few specific, concrete examples of successful programs and activities, with accomplishments, with which applicant has been involved which have contributed to its experience and capability to carry out the proposed project. This should include experience in working with the target or similar populations, as well as collaborative programming and operations which involve financial institutions and financial planning, budget counseling, educational guidance, preparation for home ownership, and/or self-employment training.

Applications should identify applicant agency executive leadership in this section and briefly describe their involvement in the proposed project and provide assurance of their commitment to its successful implementation. (This can be achieved by a statement or letter from agency executive leadership which may be included in the Appendix.) The application should note and justify the priority that this project will have within the agency including the facilities and resources that it has available to carry it out.

The application must also identify the individual staff person(s) who will have the most responsibility for managing the project, coordinating services and activities for participants and partners, and for achieving performance targets. The focus should be on the qualifications, experience, capacity and commitment to the program of the key staff person(s) who will administer and implement the project, and the application should indicate the amount of time (in FTE) each will be expected to devote to the project. The person identified as Project Director should have supervisory experience, experience in working with financial institutions and budget related problems of the poor, and experience with the target population. Because this is a demonstration project within an already-established agency, OCS expects that the key staff person(s) would be identified, if not hired, in which case a resume or resumes should be included in the Appendix. If the person or persons have not been identified, then Position Description(s) should be included in the Appendix.

Finally, the application should cite the roles, responsibilities, and experience of any other organizations that will be collaborating with the Applicant to assist and support Project Participants in the pursuit of their goals under the project. Supporting documentation concerning these partnering agencies and their commitment to participation in the project should be included in the Appendix to the proposal.

Where the Applicant is applying as the lead agency for a consortium of partnering organizations, each of these organizations should be briefly described in this section of the Project Narrative; and background materials citing their relevant experience and staff capabilities should be included in the Appendix. In such cases the Applicant should document its capability and experience in managing such consortia, and the roles and responsibilities of all participating agencies should be clearly set forth in Partnering Agreements between the Applicant and each of the member organizations. Copies of the Agreements should be included in the Appendix, and the roles and responsibilities clearly explained in Element II(b), Project Design, and reflected in the Work Plan under Element II(d).

It is suggested that applicants use no more than 5 pages for this sub-Element, not counting actual resumes or position descriptions, which should be included in an Appendix to the proposal. Background materials on consortium members (if any) and other collaborating agencies, supportive materials, and Partnering Agreements with members should also be included in the Appendix.

Evaluation Criteria 2: Approach I

Element II. Sufficiency of the Project Theory, Design, and Plan (0-45 points)

Criterion: The degree to which the project described in the application appears likely to result in the establishment of a workable, fiscally sound program that will provide a structure of incentives and supports for TANF eligible households and other working families of limited means that will enable them to increase their economic self sufficiency through economic literacy training and asset accumulation for one or more “qualified expenses”.

OCS seeks to learn from the application why and how the project as proposed is expected to establish the creation of new opportunities for asset accumulation by eligible individuals and families that can lead to significant improvements in individual and family self-sufficiency through activities requiring one or more qualified expenses: for post-secondary education, home ownership, and/or qualified business capitalization.

Applicants are urged to design and present their project in terms of a conceptual cause-effect framework that makes clear the relationship between what the project plans to do and the results it expects to achieve.

Sub-Element II(a). Description of Target Population, Analysis of Need, and Project Assumptions (0-10 points). In this sub-element of the proposal the applicant must precisely identify the target population(s) to be served. The geographic area to be impacted should then be briefly described, citing the percentage of residents who are low-income individuals and TANF recipients, as well as the unemployment rate, and other data that are relevant to the project design.

Note: Both the poverty rate and unemployment rate of the target community(s) are needed to be set forth in the Application so that its eligibility for the legislative preference may be determined (see below).

The project design or plan should begin with identifying the underlying assumptions about the program. These are the beliefs on which the proposed program is built. They should begin with assumptions about the strengths and needs of the population(s) to be served; about how the accumulation of assets will enable project participants to build on those strengths in their quest to achieve self-sufficiency; and about what anticipated needs of the participants could be barriers to that achievement.

In other words, the underlying assumptions of the program are the applicant's analysis of the participant strengths and potential to be supported and their needs and problems to be addressed by the project, and the applicant's theory of how its proposed interventions will address those strengths and needs to achieve the desired result. Thus a strong application is based upon a clear description of the strengths, opportunities, needs and problems to be supported and addressed, and a persuasive understanding of the nature of the opportunities and causes of the problems.

The application should include a discussion of the identified personal barriers to employment, job retention and greater self-sufficiency faced by the population to be targeted by the project. (These might include such problems as illiteracy, substance abuse, family violence, lack of skills training, health or medical problems, need for childcare, lack of suitable clothing or equipment, or poor self-image.) The application should also include an analysis of the identified community systemic barriers which the applicant will seek to overcome. These might include lack of public transportation; lack of markets; unavailability of financing, insurance or bonding; inadequate social services (employment service, child care, job training); high incidence of crime; lack of housing; inadequate health care; or environmental hazards. Applicants should be sure not to overlook the personal and family services and support needed by project participants which will enhance job retention and advancement, so as to assure continued ability to save from earned income, and which will also help to assure that benefits attainable through asset accumulation are not diverted by crises beyond the participants' control which would lead to emergency withdrawals. The applicant should thus be prepared to demonstrate that the proposed project activities will provide participants with realistic prospects for being able to overcome these barriers and make the investments needed to acquire the assets which are the goal of the IDA.

Where applicant is the lead agency for a group or consortium of organizations, this narrative should briefly summarize the location, character, and unemployment and poverty status of the different target populations. More detailed information for each of the participating organizations should be included in the Appendix to the Application.

Note: In accordance with the legislative preferences set forth in PART II Section J, above, the maximum score for this sub-Element in the review of applications under Priority Area 1.0 will only be given to applications which:

(1) Demonstrate the willingness and ability of the applicant to select individuals for participation in the project who are predominantly from households in which a child (or children) is living with the child's biological or adoptive mother or father, or with the child's legal guardians. (Applications which target TANF eligible households will be deemed to have met this preference); and

(2) Target individuals residing within one or more relatively well-defined neighborhoods or communities (including rural communities, public housing developments, Empowerment Zones and Enterprise Communities) that experience high rates of poverty or unemployment. (Applications which target residents of Empowerment Zones, Enterprise Communities, Public Housing, or CDFI Fund-designated Distressed Communities will be deemed to have met this preference.) (See PART II, Section J)

Each of these preferences will be valued at 2 points in the proposal review, so that the absence of one will reduce the review score for the sub-Element by 2 points; the absence of both will reduce the review score by 4 points.

In the case of a consortium of organizations operating programs funded through a lead agency, if a majority of the participating organizations meet these legislative preferences, the Application as a whole will be awarded these points.

It is suggested that applicants use no more than 5 pages for this Sub-Element, not including any more detailed information about separate target populations, which should be included in the Appendix.

Sub-Element II(b). Project Approach and Design: Interventions, Outcomes, and Goals (0-15 points). The Application should outline a plan of action which describes the scope and detail of how the proposed activities will be undertaken. This Sub-Element should begin with a concise statement of the number of IDAs that are proposed to be established for each of the “Qualified Expenses” under the AFI Act, the projected monthly savings by IDA holders and the planned rate of matching contributions, and the projected savings goals of the participants. [It is recognized that these projections may be revised during the course of the project, based on actual experience of the participants.] The applicant should demonstrate that projected savings goals have a true relation to the ability of the Participant to save and to the value or cost of the “Qualified Expense” for which the IDA is to be used, be it housing, postsecondary education, or business capitalization.

Next, the Applicant should present a clear and straightforward description, from the point of view of the Project Participant, of just how the proposed IDA Project will operate. This description should take an eligible member of the target population through project activities from recruitment through the payment for the “Qualified Expense” (and beyond, if appropriate). It is suggested that the description generally follow the outline below, plus any additional activities that the Applicant proposes to undertake as part of its project:

(1) How/where does the potential participant learn information about the Project that will excite his/her interest? (Recruitment)

(2) Once interested, how, when, by whom, and on what basis is the recruit selected to participate in the project? (Selection)

(3) How and when and with what assistance (Case Management? Family Development?) does the new participant make decisions concerning the amount of weekly or monthly savings and the selection of “Qualified Expense”? Or is this part of the Selection Process? (Consultation)

(4) When and where and with whom does the Participant reach agreement on and sign a “Savings Plan Agreement”? [Include here a brief discussion of the provisions of the Agreement, or refer to a sample provided in the Appendix.] (Savings Plan Agreement)

(5) Where, when and how does the Participant actually open his/her IDA account with the Insured Financial Institution? Where is the Institution in relation to the Participant's home/place of work? How does the Participant get to the Institution? [Include here a brief discussion of the role of the Financial Institution in account management, data collection and reporting, and any other services it will provide, referring to copies of the agreement(s) with the Financial Institution(s) in the Appendix.] (Opening of the IDA/Role of the Financial Institution)

(6a) How and where will participant make savings deposits? In person? By mail? Through payroll deduction? (Savings Deposits)

(6b) What happens if a scheduled deposit is missed? Will the participant be sent a post card? Receive a supportive phone call? (Delinquency)

(7a) Where and when and from whom does the participant receive “Economic Literacy” or “Budgeting” training, and do childcare and transportation need to be provided? (Training and Support)

(7b) Where and when and from whom does participant receive Credit Repair Services if they are needed; and are there ways to escape from, or avoid Predatory Lenders? (Credit Repair)

(8a) Where and when and from whom does the participant receive needed support to remain on the job with opportunity for advancement (So as to assure continued savings from earned income)? (Post Employment Support Services)

(8b) Where and when and from whom does the participant receive emergency services so as to avoid having to make Emergency Withdrawals? (Crisis Intervention)

(9) Where and when and from whom does the participant receive “Qualified Expenditure” training related to home ownership, pursuit of educational goals, or business plan development and business management? (Qualified Expenditure Support)

(10) When the IDA savings/match goals have been achieved, where, when and how does the participant make or arrange withdrawals to support the “Qualified Expenses”? (Withdrawals)

In this description the applicant should discuss all of the planned activities and interventions, including those supported by other available resources, and should explain the reasons for taking the approaches proposed. The description should give a clear picture of how the project as a whole will operate from day to day, including the recruiting, financial, program support, and data collection responsibilities of the applicant and any partners in the project, and just how they will interact with the financial institutions and other participating agencies.

Where the Applicant is a lead agency for a group or consortium of organizations, the role of each must be clearly defined in this section of the application. In such cases Applicants should attach copies of signed Partnering Agreements with each of the member organizations setting forth the roles and responsibilities of each. (See Element I and PART II Section B.(3) above.)

Finally, and following the above description, the Applicant should explain how the proposed project activities will result in outcomes which will build on the strengths of the Program Participants and assist them to overcome the identified personal and systemic barriers to achieving self-sufficiency. In other words, what will the project staff do with the resources available to the project and how will what they do (interventions) assist project participants to accumulate assets in Individual Development Accounts and use those assets for “Qualified Expenses” in a manner that will help lead them to self-sufficiency?

It is suggested that applicants use no more than 9 pages for this Sub-Element, not including copies of agreements with financial institutions, partnering agencies or organizations, or sample “Savings Plan Agreement”, which should be in an Appendix.

Sub-Element II(c). Financial Institution Agreement/Statement of Policy (0-10 points).

Note: In the case of applications submitted by eligible Credit Unions or Community Development Financial Institutions, where the Reserve Fund and IDA accounts are to be held by the applicant Institution itself, the applicant must submit, in lieu of a Financial Institution Agreement, a Statement of Policy, approved by its Board of Directors and attested to by its Chairperson and Chief Financial Officer, which sets forth the provisions listed under this Sub-Element, and which will be considered in like manner in the competitive review process. Where such applicants are proposing the establishment of Reserve Fund(s) or IDA's in other partnering Financial Institutions, they should submit as part of their applications copies Agreements with such Partnering Financial Institution(s) in accordance with this Sub-Element. It is suggested that applicants need not include discussion of these Agreements/Statements of Policy in their Proposal Narrative, but should only identify the Financial Institution(s) and reference the Agreement/Statement of Policy as included in an Appendix to the Application.

Applicants other than eligible Credit Unions or CDFI's must identify the Qualified Financial Institution(s) with which they are partnering in the development and implementation of its IDA Project, and all applicants must include in an Appendix a copy of a signed Agreement between the Applicant and the Financial Institution(s), or, in the case of eligible Credit Unions or CDFI's, a Statement of Policy, which sets forth:

(1) That the project's Reserve Fund will be established in the Financial Institution;

(2) That its management will conform to the requirements of the AFIA (see PART II-G(1) above);

(3) The rate of interest to be paid on amounts in the Reserve Fund;

(4) That IDA accounts will be established in the Financial Institution through written governing instruments in accordance with the requirements of Part II, Section G (4), paragraphs (a) through (g), above, including the requirements for deposits (by cash, check, money order or electronic transfer) and withdrawals (signature of the account holder and of a responsible official of the project grantee required);

(5) How, when, and where participant deposits will be made;

(6) How and when matching contributions will be made (e.g. in a parallel account);

(7) The rate and frequency of interest payments on accounts, including matching contributions;

(8) That the accounting procedures to be followed in account management will conform to the Guidelines established by the Secretary as set forth in Attachment “L” to this Announcement;

(9) The data and reports that will be furnished to the grantee concerning the Reserve Fund and IDA accounts;

(10) The Non-Federal Share contribution, if any, being made by the Financial Institution for deposit in the Reserve Fund, and the schedule of deposits of such contribution; and

(11) Other services to be provided by the Financial Institution(s) that could strengthen the project, such as Financial Education Seminars, favorable pricing on fees, out-stationing of services in community facilities, or assistance in recruitment of Project Participants.

Agreements/policies which meet the basic requirements of paragraphs (1) through (9), above will be awarded up to eight (8) points in the competitive review process. To be awarded a higher score Agreements/Statements of Policy must include some provisions from those included in paragraphs (10) and (11).

As noted above, the applicant need only identify the partnering Financial Institution(s) under this Sub-Element, and reference the Agreement(s) or Statement of Policy in the Appendix to the Application.

Sub-Element II(d). Work Plan, Projections, Time Lines. (0-10 points). Applicant should provide quantitative quarterly projections of the activities to be carried out and such information as the projected number of participants to be enrolled in each quarter, the number of Individual Development Accounts projected to be opened in each quarter for each of the “Qualified Expenses”, the number and amount of projected deposits in each quarter, a projected schedule of IDA completions and qualified expense payments, and the number and types of services provided to participants. The plan should briefly describe the key project tasks, and show the timelines and major milestones for their implementation. Where the Applicant is a lead agency for a group or consortium of organizations, this information should be broken out for each of the member organizations. Applicant may be able to use a time line chart to convey this aspect of the work plan in minimal space.

Note: Applicants should make sure that these projections relate accurately to the amount of grant funds requested and rates of matching contributions that are planned for IDA's. In other words, applicants should not project a greater number of IDA accounts than that number that can be matched by the grant funds that will be available to the project. Applicants should also be aware that OCS funds awarded pursuant to this Announcement will be from FY 2001 funds and may not be expended after the end of the five-year Project/Budget Period to support administration of the project or matching contributions to Individual Development Accounts which may be open at that time. Consequently, Applicants should consider carefully the length of time participants will need to achieve their savings goals and at what point in the project they may wish to discontinue the opening of new accounts. Applicants should provide assurance that in every case provision will be made for payment of all promised matching deposits to IDA accounts opened by project participants in the course of the demonstration project.

This Element of the Proposal should also include a management plan or chart showing the responsibilities of the applicant agency, key personnel, and all partnering agencies and consortium members (where applicable), with an indication of who will be performing various tasks such as recruiting, training, economic education instruction, and support activities. (This plan or chart should be included in the Appendix to the Application.)

It is suggested that applicants use no more than 3 pages for this Sub-Element, not counting the management plan/chart, which should be included in the Appendix.

Evaluation Criteria 3: Budget and Budget Justification

Element III. Appropriateness of Budget and Proposed Use of Cash and In-Kind Resources. (0-5 points)

Criteria: Completeness of the Budget Justification, and the degree to which a description of the allocation of both cash and in-kind resources available to the project (including any income generated for the project by the Reserve Fund) demonstrates a thoughtful plan that reflects the needs of Project Participants and the responsive activities and interventions to be undertaken by the Applicant and its partners.

Every application must include a Budget Justification, placed after the Budget Forms SF-424 and 424A, explaining the sources and uses of project funds, and completed in accordance with instructions found in Section G, above. The Budget Justification will not be counted as part of the Project Description subject to the thirty page limitation. Applicant should briefly but thoroughly describe how all of the resources available to the Project will be employed to carry out the Work Plan described in Element II, including those training elements and support services designed to help assure participant success in meeting their savings commitments and their chosen “qualified expense” use of their Individual Development Account assets. In the budget forms and supporting Budget Justification, Applicants must clearly distinguish between AFI Act/OCS grant funds and other funds, and between cash and in-kind resources described.

As noted above, the Budget Justification will not be counted as part of the Project Description subject to the thirty page limitation.

Evaluation Criteria 4: Approach II

Element IV. Project Data: Adequacy of Plan for Collecting, Validating and Providing Project-related Data for Management Information, Reporting, and Evaluation Purposes. (0-5 points)

Criteria: Adequacy of the plan for collecting, validating and providing relevant, accurate and complete data for internal management information, statutory reporting and project evaluation purposes; and clear expression of a commitment to cooperate with the statutorily mandated evaluation of the national Assets for Independence Demonstration Program.

Note: Under the AFI Act project grantees are required to use at least 2%—but not more than 15%—of grant funds to provide the research organization evaluating the demonstration project with such information with respect to the demonstration project as may be required for the evaluation.

The AFI Act allocates a portion of the appropriated funds to support an evaluation of the overall demonstration program in addition to the funds grantees are required to expend on data collection. This Element requires the Applicant to provide a well thought-out plan for collecting, validating and reporting or providing the necessary data in a timely fashion. The Applicant is also encouraged to identify the kinds of data it believes would facilitate the management information, reporting, and evaluation purposes. The Applicant should also declare its agreement to cooperate with the evaluation of the national program, and include a brief explanation of its perception of what that cooperation would entail. Applicants are urged to carry out an ongoing assessment of the data and information collected as an effective “process” management/feedback tool in implementing the project. If the Applicant anticipates such an undertaking, the plans should be briefly outlined here.

Note: To attain a maximum score for this Element, the Applicant must state its agreement to use the “MIS IDA” information system software developed by the Center for Social Development, or a comparable and compatible Asset Development Information System, now in development, which OCS expects to provide to grantees for the maintenance, collection, and transmission of data from the proposed project.

It is suggested that applicants use no more than 2 pages for this Element.

Evaluation Criteria 5: Non-Federal Resources

Element V. Commitment of Resources. (Total of 0-15 points)

Sub-Element V(a). Proportion of Public/Private Required Non-Federal Matching Contributions. (0-2 points)

Criterion: Whether a proportionately greater amount of committed required non-Federal matching contribution funds are from private sector as opposed to public sources.

In accordance with the legislative preferences set forth in Part III Section J Preferences, above, applications which provide a commitment of required non-Federal cash matching contributions with a proportionately greater amount of such funds committed from private sector as opposed to public sources will receive 2 points under this Element.

Applicants are reminded that as noted in PART II Section I Non-Federal Matching Funds Requirements, the Applicant may itself provide the required cash non-Federal share, by providing a Statement of Commitment, on applicant letterhead, signed by the official signing the SF-424 and countersigned by the Applicant's Board Chairperson or Treasurer, that the non-Federal matching funds will be provided, contingent only on the OCS grant award, and that non-Federal share deposits and the opening of Individual Development Accounts will be coordinated so that new accounts will only be opened when there are sufficient funds in the Reserve Fund to cover the maximum matching requirements of the Savings Plan Agreements. Such a Statement of Commitment (or a Non-Federal Share Agreement as described in PART II Section I) will be accepted as valid so long as it is provided to ACF/OCS no later than September 1, 2001.

Sub-Element V(b). Availability of Additional Resources. (0-13 points)

Criterion: The extent to which additional resources (beyond the required amount of direct funds from non-federal public sector and from private sources that are formally committed to the project as matching contributions) will be available to support those activities and interventions identified in sub-Element II(b), such as economic literacy classes, “qualified expense”-related training, counseling, case management, post-employment support services, and crisis intervention.

OCS has determined that the strict legislative limitations on the use of Federal grant funds and of the minimum required non-Federal match (at least 85% of each must go toward matching deposits in Individual Development Accounts) mean that important training, counseling and support activities, critical to the success of a project, can best be supported by additional resources, both of the applicant itself and from the community.

In order to receive points in the review process under this sub-Element, the applicant must identify those additional resources, cash and in-kind, which will be dedicated to support of those activities and interventions identified in sub-Element II(b), such as economic literacy classes, training, counseling, case management, post-employment support services, and crisis intervention; and any staff data collection/verification activities described in Element III. Such resources may be existing programs of the applicant or a project partner, such as Family Development, Economic Literacy classes, or Small Business Training, in which Project Participants will be enrolled as part of their efforts to achieve self-sufficiency. This Element will be judged in the review process on the adequacy of the available resources to support the activities and interventions described in sub-Element II(b). The commitment of such resources to the project must be documented in writing and submitted as an Appendix to the Application. Because such additional resources are not part of the legislatively mandated non-Federal matching requirement, these additional resources may be of Federal or non-Federal origin, public or private, in cash or in-kind. Applicants are reminded that they will be held accountable for commitments of such additional resources even if over the amount of the required match.

It is suggested that no more than 3 pages be used for this Element, not including non-Federal Share Agreements, assurances, letters of commitment, partnership agreements, or Memoranda of Understanding, which should be put in an Appendix to the proposal.

Evaluation Criteria 6: Results or Benefits Expected

Element VI. Significant and Beneficial Impacts/Critical Issues or Potential Problems. (0-10 points)

Criteria: The extent to which proposed project is expected to produce permanent and measurable results that will reduce the incidence of poverty in the community and lead TANF eligible households and other eligible individuals and working families toward economic self-sufficiency through economic literacy education and accumulation of assets; and the extent to which applicant convincingly explains how the project will meet any critical issues or potential problems in achieving these results.

Applicants should set forth their realistic goals and projections for attainment of these and other beneficial impacts of the proposed project and should demonstrate that projected savings goals have a true relationship to the ability of the participant to save the projected amounts and to the value or cost of the “Qualified Expense” for which the IDA is to be used.

Results are expected to be quantifiable in terms of the number of Individual Development Accounts opened, their rate of growth, the number and size of withdrawals for each of the three “Qualified Expenses”, and the impact of the payment of those expenses on the participants' movement toward self-sufficiency.

Applicants should also in this Element explicitly address critical issues or potential problems that might affect the achievement of project objectives, with an explanation of how they would be overcome, and how the objectives will be achieved notwithstanding any such problems.

It is suggested that no more than 3 pages be used for this Element.

Part IV. Application Procedures

A. Application Development/Availability of Forms

In order to be considered for a grant under this program announcement, an application must conform to the Program Requirements set out in Part II and be prepared in accordance with the required project elements set out in Part III, above. It must be submitted on the forms supplied in the attachments to this Announcement and in the manner prescribed below. Attachments A through I contain all of the standard forms necessary for the application for awards under this OCS program. These attachments and Parts IV and V of this Announcement contain all the instructions required for submittal of applications.

Additional copies may be obtained by writing or telephoning the office listed under the section entitled FOR FURTHER INFORMATION CONTACT: at the beginning of this announcement. In addition, this Announcement is accessible on the Internet through the OCS WEBSITE for reading or downloading at: http://www.acf.dhhs.gov/programs/ocs/ under “Funding Opportunities”.

The applicant must be aware that in signing and submitting the application for this award, it is certifying that it will comply with the Federal requirements concerning the drug-free workplace, the Certification Regarding Environmental Tobacco Smoke, and debarment regulations set forth in Attachments G, H, and I.

PART III contains instructions for the substance and development of the project narrative, which should address the project elements in the order presented in Section I. PART V contains instructions for completing application forms. PART VI, Section A describes the contents and format of the application as a whole.

B. Application Submission

(1) Number of Copies Required. One signed original application and two copies should be submitted at the time of initial submission. (OMB 0976-0139). Two additional optional copies would be appreciated to facilitate the processing of applications.

(2) Deadline. Mailed applications shall be considered as meeting the announced deadline of August 23, 2001 if they are received on or before the deadline date. Mailed applications must be sent to: U.S. Department of Health and Human Services, Administration for Children and Families, Office of Grants Management, Office of Child Support Enforcement, “Attention: IDA Program”, 370 L'Enfant Promenade, SW., Washington, DC 20447.

Applications submitted via overnight/express delivery services should be addressed to the Administration for Children and Families, Office of Grants Management, Office of Child Support Enforcement, “Attention IDA Program”, 901 D Street SW., Fourth Floor, Washington, DC 20024. Applicants are cautioned that express/overnight mail services do not always deliver as agreed.

Applications handcarried by applicants, applicant couriers, or by other representatives of the applicant shall be considered as meeting an announced deadline if they are received on or before the deadline date, between the hours of 8:00 a.m. and 4:30 p.m., EST, at the U.S. Department of Health and Human Services, Administration for Children and Families, Office of Grants Management, Office of Child Support Enforcement, Mailroom, 2nd Floor (near loading dock), Aerospace Center, 901 D Street, SW., Washington, DC 20024, between Monday and Friday (excluding Federal holidays). The address must appear on the envelope/package containing the application with the note “Attention: IDA Program”.

ACF cannot accommodate transmission of applications by fax or through other electronic media. Therefore, applications transmitted to ACF electronically will not be accepted regardless of date or time of submission and time of receipt.

(3) Late applications. Applications which do not meet the criteria above are considered late applications. ACF shall notify each late applicant that its application will not be considered in the current competition.

(4) Extension of deadlines. ACF may extend an application deadline for applicants affected by acts of God such as floods and hurricanes when there is widespread disruption of mail service, or for other disruptions of service, such as a prolonged blackout, that affect the public at large. A determination to waive or extend deadline requirements rests with ACF's Chief Grants Management Officer.

C. Intergovernmental Review

This program is covered under Executive Order 12372, “Intergovernmental Review of Federal Programs,” and 45 CFR Part 100, “Intergovernmental Review of Department of Health and Human Services Program and Activities.” Under the Order, States may design their own processes for reviewing and commenting on proposed Federal assistance under covered programs.

*All States and Territories except Alabama, Alaska, Arizona, Colorado, Connecticut, Hawaii, Idaho, Indiana, Kansas, Louisiana, Massachusetts, Minnesota, Montana, Nebraska, New Jersey, New York, Ohio, Oklahoma, Oregon, Pennsylvania, South Dakota, Tennessee, Vermont, Virginia, Washington, Wyoming, and Palau have elected to participate in the Executive Order process and have established Single Points of Contact (SPOCs). Applicants from these twenty-eight jurisdictions need take no action regarding E.O. 12372. Applicants for projects to be administered by Federally-recognized Indian Tribes are also exempt from the requirements of E.O. 12372. Otherwise, applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or indicate “not applicable” if no submittal is required) on the Standard Form-424, item 16a.

Under 45 CFR 100.8(a)(2), a SPOC has 60 days from the application deadline to comment on proposed new or competing continuation awards. SPOCs are encouraged to eliminate the submission of routine endorsements as official recommendations.

Additionally, SPOCs are requested to clearly differentiate between mere advisory comments and those official State process recommendations which may trigger the “accommodate or explain” rule.

When comments are submitted directly to ACF, they should be addressed to: Department of Health and Human Services, Administration for Children and Families, OCSE Office of Grants Management, 370 L'Enfant Promenade, SW., 4th floor East, Washington, DC 20447.

A list of the Single Points of Contact for each State and Territory is included as Attachment J to this Announcement.

D. Initial OCS Screening

Each application submitted under this program announcement will undergo a pre-review to determine that the application was received by the closing date and submitted in accordance with the instructions in this announcement.

All applications that meet the published deadline requirements as provided in this Program Announcement will be screened for completeness and conformity with the following requirements. Only complete applications that meet the requirements listed below will be reviewed and evaluated competitively. Other applications will be returned to the applicants with a notation that they were unacceptable and will not be reviewed.

The following requirements must be met by all Applicants except as noted:

(1) The application must contain a signed Standard Form-424 “Application for Federal Assistance” (SF-424), a budget (SF-424A), and signed “Assurances” (SF-424B) completed according to instructions published in Part V and Attachments A, B, and C of this Program Announcement. The SF-424 and the SF-424B must be signed by an official of the organization applying for the grant who has authority to obligate the organization legally. Applicants must also be aware that the applicant's legal name as required on the SF-424 (Item 5) must match that listed as corresponding to the Employer Identification Number (Item 6).

(2) A project narrative must also accompany the standard forms. OCS requires that the narrative portion of the application be limited to 30 letter-size pages, numbered, and typewritten on one side of the paper only with one-inch margins and type face no smaller than 12 characters per inch (c.p.i.) or equivalent. Applications with project narratives (excluding Project Summaries and appendices) of more than 30 letter-sized pages of 12 c.p.i. type or equivalent on a single side will not be reviewed for funding. The Joint Applicant Agreement (where applicable), non-Federal share agreement, Budget Narrative, Charts, exhibits, resumes, position descriptions, letters of support or commitment, Agreements with Financial Institutions and other partnering organizations, and Business Plans (where required) are not counted against this page limit, and should be in the Appendix. It is strongly recommended that applicants follow the format and content for the narrative described in the proposal elements set out in Part III, Section I.

(3) Application submitted by other than a Credit Union or a CDFI must contain documentation of the applicant's (or joint applicant's) tax exempt status as required under PART II, Section B. The applicant can accomplish this by providing a copy of the applicant's listing in the Internal Revenue Service's (IRS) most recent list of tax-exempt organizations described in Section 501(c)(3) of the IRS code or by providing a copy of their currently valid IRS tax exemption certificate. Applications submitted by eligible credit unions and CDFI's must provide written documentation of their status and evidence of their collaborative relationship with an appropriate local community-based organization, as explained in PART II, Section B. (4) Application must include a copy of a “Non-Federal Share Agreement” or Agreements, or a Statement of Commitment, as described below, or a statement that the applicant intends to provide such an Agreement or Statement to ACF/OCS no later than September 1, 2001. The “Non-Federal Share Agreement” must be in writing executed with the entity or entities providing the required non-Federal matching contributions, signed by a person authorized to make a commitment on behalf of the entity and signed for the Applicant by the person signing the SF-424. Such Agreement(s) must include: (1) A commitment by the organization to provide the non-Federal funds contingent only on the grant award; and (2) an agreement as to the schedule of the opening of Individual Development Accounts by the Applicant, and the schedule of deposits by the organization to the project's Reserve Fund, such that the two schedules will together assure that there will be at all times in the Reserve Fund non-Federal matching contribution funds sufficient to meet the maximum pledges of matching contributions under the “Savings Plan Agreements” for all Individual Development Accounts then open and being maintained by the grantee as part of the demonstration project.

Where Applicants (or Joint Applicants) themselves are providing non-Federal share funding, then with regard to those funds the Applicant must provide a statement of commitment, written on the Applicant's letterhead, signed by the person signing the SF-424, and countersigned by the board Chairperson or Treasurer, that the required non-Federal share funds will be provided and that deposits and the opening of Individual Development Accounts will be coordinated so that new accounts will only be opened when there are sufficient funds in the Reserve Fund to cover the maximum matching requirements of the Savings Plan Agreements. (See Part II, Section I.) As noted above, such statements of commitment must be provided to ACF/OCS no later than September 1, 2001.

Applicants are strongly encouraged to mobilize additional resources, which may be cash or in-kind contributions, Federal or non-Federal, for support of project administration and assistance to Project Participants in obtaining skills, knowledge, and needed support services. [See Part III—I Element V(b)] (5) All Applications other than those submitted by eligible Credit Unions or CDFI's must include a copy of an Agreement between the Applicant and one or more Qualified Financial Institutions, which includes the provisions set out in PART III, Element II(c), which states that the accounting procedures to be followed in account management will conform to Guidelines (45 CFR Part 74) established by the Secretary, and under which the partnering financial institution will agree to provide data and reports as requested by the applicant.

Note: The Accounting Guidelines may be found in Attachment L to this Announcement.

E. Consideration of Applications

Applications which pass the initial OCS screening will be reviewed and rated by an independent review panel on the basis of the specific review criteria described and discussed in Part III, above. Applications will be reviewed and rated under the Program Elements and Review Criteria set forth in PART III Section I. The review criteria were designed to assess the quality of a proposed project, and to determine the likelihood of its success. The review criteria are closely related and are considered as a whole in judging the overall quality of an application. Points are awarded only to applications which are responsive to the review criteria and program elements within the context of this Program Announcement. The results of these reviews will assist the Director and OCS program staff in considering competing applications. Reviewers' scores will weigh heavily in funding decisions, but will not be the only factors considered.

Applications generally will be considered in order of the average scores assigned by reviewers. However, highly ranked applications are not guaranteed funding since other factors are taken into consideration, including, but not limited to, the timely and proper completion by applicant of projects funded with OCS funds granted in the last five (5) years; comments of reviewers and government officials; staff evaluation and input; the amount and duration of the grant requested and the proposed project's consistency and harmony with OCS goals and policy; geographic distribution of applications; previous program performance of applicants; compliance with grant terms under previous HHS grants, including the actual dedication to program of mobilized resources as set forth in project applications; audit reports; investigative reports; and applicant's progress in resolving any final audit disallowances on previous OCS or other Federal agency grants.

Since non-Federal reviewers will be used for review of applications, Applicants may omit from the application copies which will be made available to the non-Federal reviewers, the specific salary rates or amounts for individuals identified in the application budget. Rather, only summary information is required. OCS reserves the right to discuss applications with other Federal or non-Federal funding sources to verify the applicant's performance record and the documents submitted.

F. Reconsideration

After Federal fund are exhausted for this grant competition, OCS may decide to reconsider applications which have been independently reviewed and ranked but have no final disposition (neither approved nor disapproved). Reconsideration may occur at any time funds become available within twelve (12) months following ranking. If a competition involving applications with no final disposition should occur, applications will be reviewed by independent reviewers in a new competition and ranked according to the new score. Applicants that will be reconsidered for possible funding will be afforded an opportunity to request reviewer comments from the prior competition, and can revise and reapply under the new competition. In this instance, the previous application will be discarded and the new application will be considered.

Part V. Instructions for Completing Application Forms

The standard forms attached to this announcement shall be used to apply for funds under this program announcement.

It is suggested that you reproduce single-sided copies of the SF-424 and SF-424A, and type your application on the copies. Please prepare your application in accordance with instructions provided on the forms (Attachments A and B) as modified by the instructions set forth in PART III G., above, and the OCS specific instructions set forth below:

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification which describes how the categorical costs are derived. Discuss the necessity, reasonableness, and allocability of the proposed costs. (Note: The Budget detail and Narrative Budget Justification should follow the SF-424 and 424A, and are not counted as part of the Project Narrative.)

A. SF-424—Application for Federal Assistance (Attachment A)

Top of Page

Where the applicant is a previous Department of Health and Human Services grantee, enter the Central Registry System Employee Identification Number (CRS/EIN) and the Payment Identifying Number, if one has been assigned, in the Block entitled Federal Identifier located at the top right hand corner of the form (third line from the top).

Item 1. For the purposes of this announcement, all projects are considered Applications; there are no Pre-Applications.

Item 7. If applicant is a State, enter “A” in the box. If applicant is an Indian Tribe enter “K” in the box. If applicant is a non-profit organization enter “N” in the box.

Item 9. Name of Federal Agency—Enter DHHS-ACF/OCS.

Item 10. The Catalog of Federal Domestic Assistance number for OCS programs covered under this announcement is 93.602. The title is “Assets for Independence Demonstration Program (IDA Program)”.

Item 11. In addition to a brief descriptive title of the project, indicate the priority area for which funds are being requested. Use the following letter designations: I—Individual projects under Priority Area 1.0

Item 13. Proposed Project—The project start date must begin on or before September 30, 2001; the ending date should be calculated on the basis of 60-month Project Period.

Item 15a. This amount should be no greater than $1,000,000 for applications under Priority Area 1.0.

Item 15b-e. These items should reflect both cash and third-party, in-kind contributions for the Project Period (60 months).

B. SF-424A—Budget Information—Non-Construction Programs

(Attachment B)

In completing these sections, the Federal Funds budget entries will relate to the requested OCS funds only, and Non-Federal will include mobilized funds from all other sources—applicant, state, local, and other. Federal funds other than requested OCS funding should be included in Non-Federal entries. Sections A, B, and C of SF-424A should reflect budget estimates for each year of the Project Period.

Section A—Budget Summary

You need only fill in lines 1 and 5 (with the same amounts)

Col. (a): Enter “IDA Program” as Item number 1. (Items 2, 3, 4, and 5 should be left blank.)

Col. (b): Catalog of Federal Domestic Assistance number is 93.602.

Col. (c) and (d): not relevant to this program.

Column (e)-(g): enter the appropriate amounts in items 1. and 5. (Totals)

Column e should not be more than $1,000,000 for applications under Priority Area 1.0, and in no case can it be more than the committed non-Federal matching cash contribution.

Section B—Budget Categories

(Note that the following information supersedes the instructions provided with the Form in Attachment C)

Columns (1)-(5): For each of the relevant Object Class Categories:

Column 1: Enter the OCS grant funds for the full 5-year budget period. With regard to Class Categories, no less than eighty-five percent (85%) of OCS grant funds should be entered in “h. Other”, representing the funds to be deposited in the Reserve Fund and which will be used to match participant contributions in IDA's. The balance of up to fifteen percent (15%) of OCS grant funds should be allocated to Object Class Categories in accordance with the instructions found in Part III Section G of this Announcement.

Columns 2, 3 and 4 are not relevant to this program.

Column 5: Enter not less than 85% of OCS grant funds for the five year budget by Class Categories under “other”, showing a total of not more than $1,000,000.

Section C—Non-Federal Resources

This section is to record the amounts of “non-Federal” resources that will be used to support the project, including both the required cash non-Federal “matching contributions” share, and the “additional resources” which will bring additional support to the project, which may be cash or in-kind, non-Federal or Federal. In this context, “Non-Federal” resources mean any and all resources other than the OCS funds for which the applicant is applying. Therefore, mobilized funds from other Federal programs, such as the Job Training Partnership Act program or the Welfare-to-Work program, should be entered on these lines. Provide a brief listing of these “non-Federal” resources on a separate sheet and describe whether it is a grantee cost or a third-party cash or in-kind contribution. The firm commitment of these resources must be documented and submitted with the application in order to be given credit in the review process under the Non-Federal Resources program element.

Note: Even though non-Federal resources mobilized may go beyond the amount required as match under the IDA Program, grantees will be held accountable for any such cash or in-kind contribution proposed or pledged as part of an approved application where the use of such funds falls within a Program Element/Proposal Review Criterion which formed the basis for the grant award. [See PART II, Section I. and PART III, Element V(b).]

Sections D, E, and F may be left blank by Applicants under Priority Area 1.0. As noted in Part VI, a supporting Budget Justification must be submitted providing details of expenditures under each budget category, with justification of dollar amounts which relate the proposed expenditures to the work program and goals of the project.

C. SF-424B Assurances: Non-Construction Programs

Applicants requesting financial assistance for a non-construction project must file the Standard Form-424B, “Assurances: Non-Construction Programs.” (Attachment C) Applicants must sign and return the Standard Form-424B with their applications.

Applicants must provide a certification concerning Lobbying. Prior to receiving an award in excess of $100,000, applicants shall furnish an executed copy of the lobbying certification. (See Attachments D and E) Applicants must sign and return the certification with their applications. Applicants should note that the Lobbying Disclosure Act of 1995 has simplified the lobbying information required to be disclosed under 31 U.S.C. 1352.

Applicants must make the appropriate certification on their compliance with the Drug-Free Workplace Act of 1988 and the Pro-Children Act of 1994 (Certification Regarding Smoke Free Environment). (See Attachments G and H) By signing and submitting the applications, applicants are attesting to their intent to comply with these requirements and need not mail back the certification with the applications.

Applicants must make the appropriate certification that they are not presently debarred, suspended or otherwise ineligible for award. (See Attachment I) By signing and submitting the applications, applicants are providing the certification and need not mail back the certification with the applications. Copies of the certifications and assurances are located at the end of this announcement.

Part VI. Contents of Application and Receipt Process

Application pages should be numbered sequentially throughout the application package, beginning with a Summary/Abstract of the proposed project as page number one; and each application must include all of the following, in the order listed below:

A. Content and Order of IDA Program Application

1. A Project Summary/Abstract—brief, not to exceed one page, on the Applicant's letterhead (that will not be counted as a part of the Project Narrative/Description) and that includes the following information:

—A brief identification of the geographic area to be served, indicating poverty and unemployment rates, and the specific population to be targeted by the project;

—The amount of the grant requested;

—The name of partnering financial institution(s) and collaborating organizations (if applicable);

—The amount of required non-Federal match committed;

—The number of IDA accounts projected to be opened in the course of the Demonstration Project;

—The proposed rate of matching contributions, and the types and numbers of “Qualified Expenses” expected to be achieved by participants; and

—A brief narrative description of the project indicating any of its innovative aspects.

2. Table of Contents;

3. A completed Standard Form-424 (Attachment A) which has been signed by an official of the organization applying for the grant who has authority to obligate the organization legally; [Note: The original SF-424 must bear the original signature of the authorizing representative of the applicant organization];

4. A completed Budget Information-Non-Construction Programs (SF-424A) (Attachment B);

5. A Budget Justification, including narrative budget justification for each object class category included under Section B, as described in PART III, Program Element III;

6. Proof of current tax-exempt status of Applicant or Joint Applicant (See PART II B.);

7. A project narrative, limited to the number of pages specified below, which includes all of the required elements described in Part III. [Specific information/data required under each component is described in Part III Section I, Evaluation Criteria.]

8. Appendices, which should include the following:

(a) (Where Application is submitted by a State or Local government agency or Tribal government jointly with a tax exempt non-profit organization) a properly executed Joint Application Agreement as described in PART II B.(2), above;

(b) Filled out, signed and dated Assurances—Non-Construction Programs (SF-424B), (Attachment C);

(c) Restrictions on Lobbying—Certification for Contracts, Grants, Loans, and Cooperative Agreements: filled out, signed and dated form found at Attachment D;

(d) Disclosure of Lobbying Activities, SF-LLL: Filled out, signed and dated form found at Attachment E, if appropriate (omit Items 11-15 on the SF LLL and ignore references to continuation sheet SF-LLL-A)

(e) Maintenance of Effort Certification (See Attachment F);

(f) Signed Agreement(s) with partnering Financial Institution(s) (or Statements of Policy in the case of Credit Union or CDFI applicants) including identification of insurance carrier and current insurance number (see Part III. Program Sub-Element II(c));

(g) Signed “Non-Federal Share Agreement(s)” with providers of required non-Federal matching contributions, and/or Statement of Commitment from the Applicant, or a statement that the applicant intends to provide ACF/OCS with such Agreement or Statement no later than September 1, 2001. (See PART II, Section I.)

(h) Resumes and/or position descriptions (see Part III Program Element I);

(i) (Where Applicant is “lead agency” of a collaborative or consortium of organizations) Copies of Partnering Agreements between the Applicant and each of the partnering members, setting forth their roles and responsibilities. (See PART III, Elements I and II(b))

(j) Any letters and/or supporting documents from collaborating or partnering agencies in target communities, providing additional information on staffing and experience in support of narrative under PART III Element I. [Such documents are not part of the Narrative and should be included in the Appendices. These documents are therefore not counted against the page limitations of the Narrative.]; and

(k) Single points of contact comments, if applicable.

Applications must be uniform in composition since OCS may find it necessary to duplicate them for review purposes. Therefore, applications must be submitted on white 8½ x 11 inch paper only (See PART IV D. (2), above, concerning margins, type size, etc). They must not include colored, oversized or folded materials. Do not include organizational brochures or other promotional materials, slides, films, clips, etc. in the proposal. They will be discarded if included. The applications should be two-hole punched at the top center and fastened separately with a compressor slide paper fastener, or a binder clip. The submission of bound plans, or plans enclosed in binders is specifically discouraged.

B. Acknowledgment of Receipt

Acknowledgment of Receipt—All applicants will receive an acknowledgment with an assigned identification number. Applicants are requested to supply a self-addressed mailing label with their Application, or a FAX number or e-mail address which can be used for acknowledgment. The assigned identification number, along with any other identifying codes, must be referenced in all subsequent communications concerning the Application. If an acknowledgment is not received within three weeks after the deadline date, please notify ACF by telephone at (202) 401-5307.

Part VII. Post Award Information and Reporting Requirements

A. Notification of Grant Award

Following approval of the applications selected for funding, notice of project approval and authority to draw down project funds will be made in writing. The official award document is the Financial Assistance Award which provides the amount of Federal funds approved for use in the project, the project and budget period for which support is provided, the terms and conditions of the award, and the total project period for which support is contemplated.

B. Attendance at Technical Assistance and Evaluation Workshops/Conferences

OCS hopes to sponsor one or more national evaluation workshops in Washington, D.C. or in other locations during the course of the five-year project. Project Directors will be expected to attend such workshops provided additional funds can be made available by OCS for expenses of attending.

C. Reporting Requirements

Grantees will be required to submit a semi-annual program progress and financial report (SF 269) covering the six months after grant award, and similar reports after conclusion of the first Project Year. Such reports will be due 60 days after the reporting period. Thereafter grantees will be required to submit annual program progress and financial reports (SF 269), as well as a final program progress and financial report within 90 days of the expiration of the grant.

D. Audit Requirements

Grantees are subject to the audit requirements in 45 CFR Part 74 (non-profit organizations) or Part 92 (governmental entities) which require audits under OMB Circular A-133.

E. Prohibitions and Requirements With Regard to Lobbying

Section 319 of Public Law 101-121, signed into law on October 23, 1989, imposes prohibitions and requirements for disclosure and certification related to lobbying on recipients of Federal contracts, grants, cooperative agreements, and loans. It provides limited exemptions for Indian tribes and tribal organizations. Current and prospective recipients (and their subtier contractors and/or grantees) are prohibited from using appropriated funds for lobbying Congress or any Federal agency in connection with the award of a contract, grant, cooperative agreement or loan. In addition, for each award action in excess of $100,000 (or $150,000 for loans) the law requires recipients and their subtier contractors and/or subgrantees (1) to certify that they have neither used nor will use any appropriated funds for payment to lobbyists, (2) to submit a declaration setting forth whether payments to lobbyists have been or will be made out of non-appropriated funds and, if so, the names, address, payment details, and purpose of any agreements with such lobbyists whom recipients or their subtier contractors or subgrantees will pay with the non-appropriated funds and (3) to file quarterly up-dates about the use of lobbyists if an event occurs that materially affects the accuracy of the information submitted by way of declaration and certification.

The law establishes civil penalties for noncompliance and is effective with respect to contracts, grants, cooperative agreements and loans entered into or made on or after December 23, 1989. See Attachment H, for certification and disclosure forms to be submitted with the applications for this program.

F. Applicable Federal Regulations

Attachment K indicates the regulations which apply to all applicants/grantees under the Assets for Independence Demonstration Program.

Dated: July 17, 2001.
Robert Mott,
Deputy Director, Office of Community Services.

Assets for Independence Demonstration Program; List of Attachments

Attachment A Application for Federal Assistance (SF-424)

Attachment B Budget Information—Non-Construction Programs (SF-424A)

Attachment C Assurances—Non-Construction Programs (SF-424B)

Attachment D Certification Regarding Lobbying

Attachment E Disclosure of Lobbying Activities

Attachment F Certification Regarding Maintenance of Effort

Attachment G Certification Regarding Drug-Free Workplace Requirements

Attachment H Certification Regarding Environmental Tobacco Smoke

Attachment I Certification Regarding Debarment, Suspension and Other Responsibility Matters

Attachment J E.O. 12372 State Single Point of Contact List

Attachment K DHHS Regulations Applying to Applicants/Grantees Under the Assets for Independence Demonstration (IDA) Program

Attachment L Accounting Regulation

BILLING CODE 4184-01-P

BILLING CODE 4184-01-C

Instructions for the SF-424

Public reporting burden for this collection of information is estimated to average 45 minutes per response, including time for reviewing instructions, searching existing data sources, gathering and maintaining the data needed, and completing and reviewing the collection of information, including suggestions for reducing this burden, to the Office of Management and Budget, Paperwork Reduction Project (0348-0043), Washington, DC 20503.

Please Do Not Return Your Completed Form to the Office of Management and Budget. Send It to the Address Provided By the Sponsoring Agency.

This is a standard form used by applicants as a required facesheet for preapplications and applications submitted for Federal assistance. It will be used by Federal agencies to obtain applicant certification that States which have established a review and comment procedure in response to Executive Order 12372 and have selected the program to be included in their process, have been given an opportunity to review the applicant's submission.

Item and Entry

1. Self-explanatory.

2. Date application submitted to Federal agency (or State if applicable) and applicant's control number (if applicable).

3. State use only (if applicable).

4. If this application is to continue or revise an existing award, enter present Federal identifier number. If for a new project, leave blank.

5. Legal name of applicant, name of primary organizational unit which will undertake the assistance activity, complete address of the applicant, and name and telephone number of the person to contact on matters related to this application.

6. Enter Employer Identification Number (EIN) as assigned by the Internal Revenue Service.

7. Enter the appropriate letter in the space provided.

8. Check appropriate box and enter appropriate letter(s) in the space(s) provided:

—“New” means a new assistance award.

—“Continuation” means an extension for an additional funding/budget period for a project with a projected completion date.

—“Revision” means any change in the Federal Government's financial obligation or contingent liability from an existing obligation.

9. Name of Federal agency from which assistance is being requested with this application.

10. Use the Catalog of Federal Domestic Assistance number and title of the program under which assistance is requested.

11. Enter a brief descriptive title of the project. If more than one program is involved, you should append an explanation on a separate sheet. If appropriate (e.g., construction or real property projects), attach a map showing project location. For preapplications, use a separate sheet to provide a summary description of this project.

12. List only the largest political entities affected (e.g., State, counties, cities).

13. Self-explanatory.

14. List of applicant's Congressional District and any District(s) affected by the program or project.

15. Amount requested or to be contributed during the first funding/budget period by each contributor. Value of inkind contributions should be included on appropriate lines as applicable. If the action will result in a dollar change to an existing award, indicate only the amount of the change. For decreases, enclose the amounts in parentheses. If both basic and supplemental amounts are included, show breakdown on an attached sheet. For multiple program funding, use totals and show breakdown using same categories as item 15.

16. Applicants should contact the State Single Point of Contact (SPOC) for Federal Executive Order 12372 to determine whether the application is subject to the State intergovernmental review process.

17. This question applies to the applicant organization, not the person who signs as the authorized representative. Categories of debt include delinquent audit disallowances, loans and taxes.

18. To be signed by the authorized representative of the applicant. A copy of the governing body's authorization for you to sign this application as official representative must be on file in the applicant's office. (Certain Federal agencies may require that this authorization be submitted as part of the application).

BILLING CODE 4184-01-P

BILLING CODE 4184-01-C

Instructions for the SF-424A

Public reporting burden for this collection of information is estimated to average 180 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0044), Washington, DC 20503.

Please Do Not Return Your Completed Form to the Office of Management and Budget. Send It to the Address Provided by the Sponsoring Agency.

General Instructions

This form is designed so that application can be made for funds from one or more grant programs. In preparing the budget, adhere to any existing Federal grantor agency guidelines which prescribe how and whether budgeted amounts should be separately shown for different functions or activities within the program. For some programs, grantor agencies may require budgets to be separately shown by function or activity. For other programs, grantor agencies may require a breakdown by function or activity. Sections A, B, C, and D should include budget estimates for the whole project except when applying for assistance which requires Federal authorization in annual or other funding period increments. In the latter case, Sections A, B, C, and D should provide the budget for the first budget period (usually a year) and Section E should present the need for Federal assistance in the subsequent budget periods. All applications should contain a breakdown by the object class categories shown in Lines a-k of Section B.

Section A. Budget Summary Lines 1-4 Columns (a) and (b)

For applications pertaining to a single Federal grant program (Federal Domestic Assistance Catalog number) and not requiring a functional or activity breakdown, enter on Line 1 under Column (a) the Catalog program title and the Catalog number in Column (b).

For applications pertaining to a single program requiring budget amounts by multiple functions or activities, enter the name of each activity or function on each line in Column (a), and enter the Catalog number in Column (b). For applications pertaining to multiple programs where none of the programs require a breakdown by function or activity, enter the Catalog program title on each line in Column (a) and the respective Catalog number on each line in Column (b).

For applications pertaining to multiple programs where one or more programs require a breakdown by function or activity, prepare a separate sheet for each program requiring the breakdown. Additional sheets should be used when one form does not provide adequate space for all breakdown of data required. However, when more than one sheet is used, the first page should provide the summary totals by programs.

Lines 1-4, Columns (c) through (g)

For new applications, leave Column (c) and (d) blank. For each line entry in Columns (a) and (b), enter in Columns (e), (f), and (g) the appropriate amounts of funds needed to support the project for the first funding period (usually a year).

For continuing grant program applications, submit these forms before the end of each funding period as required by the grantor agency. Enter in Columns (c) and (d) the estimated amounts of funds which will remain unobligated at the end of the grant funding period only if the Federal grantor agency instructions provide for this. Otherwise, leave these columns blank. Enter in columns (e) and (f) the amounts of funds needed for the upcoming period. The amount(s) in Column (g) should be the sum of amounts in Columns (e) and (f).

For supplemental grants and changes to existing grants, do not use Columns (c) and (d). Enter in Column (e) the amount of the increase or decrease of Federal funds and enter in Column (f) the amount of the increase or decrease of non-Federal funds. In Column (g) enter the new total budgeted amount (Federal and non-Federal) which includes the total previous authorized budgeted amounts plus or minus, as appropriate, the amounts shown in Columns (e) and (f). The amount(s) in Column (g) should not equal the sum of amounts in Columns (e) and (f).

Line 5—Show the totals for all columns used.

Section B. Budget Categories

In the column headings (1) through (4), enter the titles of the same programs, functions, and activities shown on Lines 1-4, Column (a), Section A. When additional sheets are prepared for Section A, provide similar column headings on each sheet. For each program, function or activity, fill in the total requirements for funds (both Federal and non-Federal) by object class categories.

Line 6a-i—Show the totals of Lines 6a to 6h in each column.

Line 6j—Show the amount of indirect cost.

Line 6k—Enter the total of amounts on Lines 6i and 6j. For all applications for new grants and continuation grants the total amount in column (5), Line 6k, should be the same as the total amount shown in Section A, Column (g), Line 5. For supplemental grants and changes to grants, the total amount of the increase or decrease as shown in Columns (1)-(4), Line 6k should be the same as the sum of the amounts in Section A, Columns (e) and (f) on Line 5.

Line 7—Enter the estimated amount of income, if any, expected to be generated from this project. Do not add or subtract this amount from the total project amount, Show under the program narrative statement the nature and source of income. The estimated amount of program income may be considered by the Federal grantor agency in determining the total amount of the grant.

Section C. Non-Federal Resources

Lines 8-11— Enter amounts of non-Federal resources that will be used on the grant. If in-kind contributions are included, provide a brief explanation on a separate sheet.

Column (a)—Enter the program titles identical to Column (a), Section A. A breakdown by function or activity is not necessary.

Column (b)—Enter the contribution to be made by the applicant.

Column (c)—Enter the amount of the State's cash and in-kind contribution if the applicant is not a State or State agency. Applicants which are a State or State agencies should leave this column blank.

Column (d)—Enter the amount of cash and in-kind contributions to be made from all other sources.

Column (e)—Enter totals of Columns (b), (c), and (d).

Line 12—Enter the total for each of Columns (b)-(e). The amount in Column (e) should be equal to the amount on Line 5, Column (f), Section A.

Section D. Forecasted Cash Needs

Line 13—Enter the amount of cash needed by quarter from the grantor agency during the first year.

Line 14—Enter the amount of cash from all other sources needed by quarter during the first year.

Line 15—Enter the totals of amounts on Line 13 and 14.

Section E. Budget Estimates of Federal Funds Needed for Balance of the Project

Lines 16-19—Enter in Column (a) the same grant program titles shown in Column (a), Section A. A breakdown by function or activity is not necessary. For new applications and continuation grant applications, enter in the proper columns amounts of Federal funds which will be needed to complete the program or project over the succeeding funding periods (usually in years). This section need not be completed for revisions (amendments, changes, or supplements) to funds for the current year of existing grants.

If more than four lines are needed to list the program titles, submit additional schedules as necessary.

Line 20—Enter the total for each of the Columns (b)-(e). When additional schedules are prepared for this Section, annotate accordingly and show the overall totals on this line.

Section F. Other Budget Information

Line 21—Use this space to explain amounts for individuals direct object class cost categories that may appear to be out of the ordinary or to explain the details as required by the Federal grantor agency.

Line 22—Enter the type of indirect rate (provisional, predetermined, final or fixed) that will be in effect during the funding period, the estimated amount of the base to which the rate is applied, and the total indirect expense.

Line 23—Provide any other explanations or comments deemed necessary.

Assurances—Non-Construction Programs

Public reporting burden for this collection of information is estimated to average 15 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0040), Washington, DC 20503.

PLEASE DO NOT RETURN YOUR COMPLETED FORM TO THE OFFICE OF MANAGEMENT AND BUDGET. SEND IT TO THE ADDRESS PROVIDED BY THE SPONSORING AGENCY.

Note: Certain of these assurances may not be applicable to your project or program. If you have questions, please contact the awarding agency. Further, certain Federal awarding agencies may require applicants to certify to additional assurances. If such is the case, you will be notified.

As the duly authorized representative of the applicant, I certify that the applicant:

1. Has the legal authority to apply for Federal assistance and the institutional, managerial and financial capability (including funds sufficient to pay the non-Federal share of project cost) to ensure proper planning, management and completion of the project described in this application.

2. Will give the awarding agency, the Comptroller General of the United States and, if appropriate, the State, through any authorized representative, access to and the right to examine all records, books, papers, or documents related to the award; and will establish a proper accounting system in accordance with generally accepted accounting standards or agency directives.

3. Will establish safeguards to prohibit employees from using their positions for a purpose that constitutes or presents the appearance of personal or organizational conflict of interest, or personal gain.

4. Will initiate and complete the work within the applicable time frame after receipt of approval of the awarding agency.

5. Will comply with the Intergovernmental Personnel Act of 1970 (42 U.S.C. §§ 4728-4763) relating to prescribed standards for merit systems for programs funded under one of the 19 statutes or regulations specified in Appendix A of OPM's Standards for a Merit System of Personnel Administration (5 C.F.R. 900, Subpart F).

6. Will comply with all Federal statutes relating to nondiscrimination. These include but are not limited to: (a) Title VI of the Civil Rights Act of 1964 (P.L. 88-352) which prohibits discrimination on the basis of race, color or national origin; (b) Title IX of the Education Amendments of 1972, as amended (20 U.S.C. §§ 1681-1683, and 1685-1686), which prohibits discrimination on the basis of sex; (c) Section 504 of the Rehabilitation Act of 1973, as amended (29 U.S.C. § 794), which prohibits discrimination on the basis of handicaps; (d) the Age Discrimination Act of 1975, as amended (42 U.S.C. §§ 6101-6107), which prohibits discrimination on the basis of age; (e) the Drug Abuse Office and treatment Act of 1972 (P.L. 92-255), as amended, relating to nondiscrimination on the basis of drug abuse; (f) the Comprehensive Alcohol Abuse and Alcoholism Prevention, Treatment and Rehabilitation Act of 1970 (P.L. 91-616), as amended, relating to nondiscrimination on the basis of alcohol abuse or alcoholism; (g) §§ 523 and 527 of the Public Health Service Act of 1912 (42 U.S.C. §§ 290 dd-3 and 290 ee 3), as amended, relating to confidentiality of alcohol and drug abuse patient records; (h) Title VIII of the Civil Rights Act of 1968 (42 U.S.C. §§ 3601 et seq.), as amended, relating to nondiscrimination in the sale, rental or financing of housing; (i) any other nondiscrimination provisions in the specific statute(s) under which application for Federal assistance is being made; and, (j) the requirements of any other nondiscrimination statute(s) which may apply to the application.

7. Will comply, or has already complied, with the requirements to Titles II and III of the Uniform Relocation Assistance and Real Property Acquisition Policies Act of 1970 (P.L. 91-646) which provide for fair and equitable treatment of persons displaced or whose property is acquired as a result of Federal or federally-assisted programs. These requirements apply to all interests in real property acquired for project purposes regardless of Federal participation in purchases.

8. Will comply, as applicable, with provisions of the Hatch Act (5 U.S.C. §§ 1501-1508 and 7324-7328) which limit the political activities of employees whose principal employment activities are funded in whole or in part with Federal funds.

9. Will comply, as applicable, with the provisions of the Davis-Bacon Act (40 U.S.C. §§ 276a to 276a-7), the Copeland Act (40 U.S.C. § 276c and 18 U.S.C. § 874), and the Contract Work Hours and Safety Standards Act (40 U.S.C. §§ 327-333), regarding labor standards for federally-assisted construction subagreements.

10. Will comply, if applicable, with flood insurance purchase requirements of Section 102(a) of the Flood Disaster Protection Act of 1973 (P.L. 93-234) which requires recipients in a special flood hazard area to participate in the program and to purchase flood insurance if the total cost of insurable construction and acquisition is $10,000 or more.

11. Will comply with environmental standards which may be prescribed pursuant to the following: (a) institution of environmental quality control measures under the National Environmental Policy Act of 1969 (P.L. 91-190) and Executive Order (EO) 11514; (b) notification of violating facilities pursuant to EO 11738; (c) protection of wetlands pursuant to EO 11990; (d) evaluation of flood hazards in floodplains in accordance with EO 11988; (e) assurance of project consistency with the approved State management program developed under the Coastal Zone Management Act of 1972 (16 U.S.C. §§ 1451 et seq.); (f) conformity of Federal actions to State (Clean Air) Implementation Plans under Section 176(c) of the Clean Air Act of 1955, as amended (42 U.S.C. §§ 7401 et seq.); (g) protection of underground sources of drinking water under the Safe Drinking Water Act of 1974, as amended (P.L. 93-523); and, (h) protection of endangered species under the Endangered Species Act of 1973, as amended (P.L. 93-205).

12. Will comply with the Wild and Scenic Rivers Act of 1968 (16 U.S.C. §§ 1271 et seq.) related to protecting components or potential components of the national wild and scenic rivers system.

13. Will assist the awarding agency in assuring compliance with Section 106 of the National Historic Preservation Act of 1966, as amended (16 U.S.C. § 470), EO 11593 (identification and protection of historic properties), and the Archaeological and Historic Preservation Act of 1974 (16 U.S.C. §§ 469a-1 et seq.).

Will comply with P.L. 93-348 regarding the protection of human subjects involved in research, development, and related activities supported by this award of assistance.

15. Will comply with the Laboratory Animal Welfare Act of 1966 (P.L. 89-544, as amended, 7 U.S.C. §§ 2131 et seq.) pertaining to the care, handling, and treatment of warm blooded animals held for research, teaching, or other activities supported by this award of assistance.

16. Will comply with the Lead-Based Paint Poisoning Prevention Act (42 U.S.C. §§ 4801 et seq.) which prohibits the use of lead-based paint in construction or rehabilitation of residence structures.

17. Will cause to be performed the required financial and compliance audits in accordance with the Single Audit Act Amendments of 1996 and OMB Circular No. A-133 “Audits of States, Local Governments, and Non-Profit Organizations.”

18. Will comply with all applicable requirements of all other Federal laws, executive orders, regulations, and policies governing this program.

Signature of Authorized Certifying Official

Title

Applicant Organization

Date Submitted

Administration for Children and Families U.S. Department of Health and Human Services, Attachment D

Certification Regarding Lobbying

Certification for Contracts, Grants, Loans, and Cooperative Agreements

The undersigned certifies, to the best of his or her knowledge and belief, that:

(1) No Federal appropriated funds have been paid or will be paid, by or on behalf of the undersigned, to any person for influencing or attempting to influence an officer or employee of an agency, a Member of Congress, an officer or employee of Congress, or an employee of a Member of Congress in connection with the awarding of any Federal contract, the making of any Federal grant, the making of any Federal loan, the entering into of any cooperative agreement, and the extension, continuation, renewal, amendment, or modification of any Federal contract, grant, loan, or cooperative agreement.

(2) If any funds other than Federal appropriated funds have been paid or will be paid to any person for influencing or attempting to influence an officer or employee of any agency, a Member of Congress, an officer or employee of Congress, or an employee of a Member of Congress in connection with this Federal contract, grant, loan, or cooperative agreement, the undersigned shall complete and submit Standard Form-LLL, “Disclosure Form to Report Lobbying,” in accordance with its instructions.

(3) The undersigned shall require that the language of this certification be included in the award documents for all subawards at all tiers (including subcontracts, subgrants, and contracts under grants, loans, and cooperative agreements) and that all subrecipients shall certify and disclose accordingly. This certification is a material representation of fact upon which reliance was placed when this transaction was made or entered into. Submission of this certification is a prerequisite for making or entering into this transaction imposed by section 1352, title 31, U.S. Code. Any person who fails to file the required certification shall be subject to a civil penalty of not less than $10,000 and not more than $100,000 for each such failure.

Statement for Loan Guarantees and Loan Insurance

The undersigned states, to the best of his or her knowledge and belief, that:

If any funds have been paid or will be paid to any person for influencing or attempting to influence an officer or employee of any agency, a Member of Congress, an officer or employee of Congress, or an employee of a Member of Congress in connection with this commitment providing for the United States to insure or guarantee a loan, the undersigned shall complete and submit Standard Form-LLL, “Disclosure Form to Report Lobbying,” in accordance with its instructions. Submission of this statement is a prerequisite for making or entering into this transaction imposed by section 1352, title 31, U.S. Code. Any person who fails to file the required statement shall be subject to a civil penalty of not less than $10,000 and not more than $100,000 for each such failure.

Signature

Title

Organization

BILLING CODE 4184-01-P

BILLING CODE 4184-01-C

Instructions for Completion of SF-LLL, Disclosure of Lobbying Activities

This disclosure form shall be completed by the reporting entity, whether subawardee or prime Federal recipient, at the initiation or receipt of a covered Federal action, or a material change to a previous filing, pursuant to title 31 U.S.C. section 1352. The filing of a form is required for each payment or agreement to make payment to any lobbying entity for influencing or attempting to influence an officer or employee of any agency, a Member of Congress, an officer or employee of Congress, or an employee of a Member of Congress in connection with a covered Federal action. Complete all items that apply for both the initial filing and material change report. Refer to the implementing guidance published by the Office of Management and Budget for additional information.

1. Identify the type of covered Federal action for which lobbying activity is and/or has been secured to influence the outcome of a covered Federal action.

2. Identify the status of the covered Federal action.

3. Identify the appropriate classification of this report. If this is a followup report caused by a material change to the information previously reported, enter the year and quarter in which the change occurred. Enter the date of the last previously submitted report by this reporting entity for this covered Federal action.

4. Enter the full name, address, city, State and zip code of the reporting entity. Include Congressional District, if known. Check the appropriate classification of the reporting entity that designates if it is, or expects to be, a prime or subaward recipient. Identify the tier of the subawardee, e.g., the first subawardee of the prime is the 1st tier. Subawards include but are not limited to subcontracts, subgrants and contract awards under grants.

5. If the organization filing the report in item 4 checks “Subawardee,” then enter the full name, address, city, State and zip code of the prime Federal recipient. Include Congressional District, if known.

6. Enter the name of the Federal agency making the award or loan commitment. Include at least one organizational level below agency name, if known. For example, Department of Transportation, United States Coast Guard.

7. Enter the Federal program name or description for the covered Federal action (item 1). If known, enter the full Catalog of Federal Domestic Assistance (CFDA) number for grants, cooperative agreements, loans, and loan commitments.

8. Enter the most appropriate Federal identifying number available for the Federal action identified in item 1 (e.g., Request for Proposal (RFP) number; Invitation for Bid (IFB) number; grant announcement number; the contract, grant, or loan award number; the application/proposal control number assigned by the Federal agency). Include prefixes, e.g., “RFP-DE-90-001.”

9. For a covered Federal action where there has been an award or loan commitment by the Federal agency, enter the Federal amount of the award/loan commitment for the prime entity identified in item 4 or 5.

10. (a) Enter the full name, address, city, State and zip code of the lobbying registrant under the Lobbying Disclosure Act of 1995 engaged by the reporting entity identified in item 4 to influence the covered Federal action.

(b) Enter the full names of the individual(s) performing services, and include full address if different from 10(a). Enter Last Name, First Name and Middle Initial (MI).

11. The certifying official shall sign and date the form, print his/her name, title, and telephone number.

According to the Paperwork Reduction Act, as amended, no persons are required to respond to a collection of information unless it displays a valid OMB Control Number. The valid OMB control number for this information collection is OMB No. 0348-0046. Public reporting burden for this collection of information is estimated to average 10 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0046), Washington, DC 20503.

Administration for Children and Families U.S. Department of Health and Human Services, Attachment F

Certification Regarding Maintenance of Effort

In accordance with the applicable statute(s) and regulation(s), the undersigned certifies that financial assistance provided by the Administration for Children and Families, for the specified activities to be performed under the ____ Program by ____ (Applicant Organization), will be in addition to, and not in substitution for, comparable activities previously carried on without Federal assistance.

Signature of Authorized Certifying Official

Title

Date

Developing ACF Program Announcements, Attachment G

Certification Regarding Drug-Free Workplace Requirements

This certification is required by the regulations implementing the Drug-Free Workplace Act of 1988: 45 CFR Part 76, Subpart F. Sections 76.630(c) and (d)(2) and 76.645(a)(1) and (b) provide that a Federal agency may designate a central receipt point for STATE-WIDE AND STATE AGENCY-WIDE certifications, and for notification of criminal drug convictions. For the Department of Health and Human Services, the central point is: Division of Grants Management and Oversight, Office of Management and Acquisition, Department of Health and Human Services, Room 517-D, 200 Independence Avenue, SW Washington, DC 20201.

Certification Regarding Drug-Free Workplace Requirements (Instructions for Certification)

1. By signing and/or submitting this application or grant agreement, the grantee is providing the certification set out below.

2. The certification set out below is a material representation of fact upon which reliance is placed when the agency awards the grant. If it is later determined that the grantee knowingly rendered a false certification, or otherwise violates the requirements of the Drug-Free Workplace Act, the agency, in addition to any other remedies available to the Federal Government, may take action authorized under the Drug-Free Workplace Act.

3. For grantees other than individuals, Alternate I applies.

4. For grantees who are individuals, Alternate II applies.

5. Workplace under grants, for grantees other than individuals, need not be identified on the certification. If known, they may be identified in the grant application. If the grantee does not identify the workplaces at the time of application, or upon award, if there is no application, the grantee must keep the identity of the workplace(s) on file in its office and make the information available for Federal inspection. Failure to identify all known workplaces constitutes a violation of the grantee's drug-free workplace requirements.

6. Workplace identifications must include the actual address of buildings (or parts of buildings) or other sites where work under the grant takes place. Categorical descriptions may be used (e.g., all vehicles of a mass transit authority or State highway department while in operation, State employees in each local unemployment office, performers in concert halls or radio studios).

7. If the workplace identified to the agency changes during the performance of the grant, the grantee shall inform the agency of the change(s), if it previously identified the workplaces in question (see paragraph five).

8. Definitions of terms in the Nonprocurement Suspension and Debarment common rule and Drug-Free Workplace common rule apply to this certification. Grantees' attention is called, in particular, to the following definitions from these rules:

Controlled substance means a controlled substance in Schedules I through V of the Controlled Substances Act (21 U.S.C. 812) and as further defined by regulation (21 CFR 1308.11 through 1308.15);

Conviction means a finding of guilt (including a plea of nolo contendere) or imposition of sentence, or both, by any judicial body charged with the responsibility to determine violations of the Federal or State criminal drug statutes;

Criminal drug statute means a Federal or non-Federal criminal statute involving the manufacture, distribution, dispensing, use, or possession of any controlled substance;

Employee means the employee of a grantee directly engaged in the performance of work under a grant, including: (i) All direct charge employees; (ii) All indirect charge employees unless their impact or involvement is insignificant to the performance of the grant; and (iii) Temporary personnel and consultants who are directly engaged in the performance of work under the grant and who are on the grantee's payroll. This definition does not include workers not on the payroll of the grantee (e.g., volunteers, even if used to meet a matching requirement; consultants or independent contractors not on the grantee's payroll; or employees of subrecipients or subcontractors in covered workplaces).

Certification Regarding Drug-Free Workplace Requirements

Alternate I. (Grantees Other Than Individuals)

The grantee certifies that it will or will continue to provide a drug-free workplace by:

(a) Publishing a statement notifying employees that the unlawful manufacture, distribution, dispensing, possession, or use of a controlled substance is prohibited in the grantee's workplace and specifying the actions that will be taken against employees for violation of such prohibition;

(b) Establishing an ongoing drug-free awareness program to inform employees about—

(1) The dangers of drug abuse in the workplace;

(2) The grantee's policy of maintaining a drug-free workplace;

(3) Any available drug counseling, rehabilitation, and employee assistance programs; and

(4) The penalties that may be imposed upon employees for drug abuse violations occurring in the workplace;

(c) Making it a requirement that each employee to be engaged in the performance of the grant be given a copy of the statement required by paragraph (a);

(d) Notifying the employee in the statement required by paragraph (a) that, as a condition of employment under the grant, the employee will—

(1) Abide by the terms of the statement; and

(2) Notify the employer in writing of his or her conviction for a violation of a criminal drug statute occurring in the workplace no later than five calendar days after such conviction:

(e) Notifying the agency in writing, within ten calendar days after receiving notice under paragraph (d)(2) from an employee or otherwise receiving actual notice of such conviction. Employers of convicted employees must provide notice, including position title, to every grant officer or other designee on whose grant activity the convicted employee was working, unless the Federal agency has designated a central point for the receipt of such notices. Notice shall include the identification number(s) of each affected grant:

(f) Taking one of the following actions, within 30 calendar days of receiving notice under paragraph (d)(2), with respect to any employee who is so convicted—

(1) Taking appropriate personnel action against such an employee, up to and including termination, consistent with the requirements of the Rehabilitation Act of 1973, as amended; or

(2) Requiring such employee to participate satisfactorily in a drug abuse assistance or rehabilitation program approved for such purposes by a Federal, State, or local health, law enforcement, or other appropriate agency;

(g) Making a good faith effort to continue to maintain a drug-free workplace through implementation of paragraphs (a), (b), (c), (d), (e) and (f).

(B) The grantee may insert in the space provided below the site(s) for the performance of work done in connection with the specific grant:

Place of Performance (Street address, city, county, state, zip code)

Check □ if there are workplaces on file that are not identified here.

Alternate II. (Grantees Who Are Individuals)

(a) The grantee certifies that, as a condition of the grant, he or she will not engage in the unlawful manufacture, distribution, dispensing, possession, or use of a controlled substance in conducting any activity with the grant;

(b) If convicted of a criminal drug offense resulting from a violation occurring during the conduct of any grant activity, he or she will report the conviction, in writing, within 10 calendar days of the conviction, to every grant officer or other designee, unless the Federal agency designates a central point for the receipt of such notices. When notice is made to such a central point, it shall include the identification number(s) of each affected grant.

[55 FR 21690, 21702, May 25, 1990]

Administration for Children and Families U.S. Department of Health and Human Servics, Attachment H

Certification Regarding Environmental Tobacco Smoke

Public Law 103227, Part C Environmental Tobacco Smoke, also known as the Pro Children Act of 1994 (Act), requires that smoking not be permitted in any portion of any indoor routinely owned or leased or contracted for by an entity and used routinely or regularly for provision of health, day care, education, or library services to children under the age of 18, if the services are funded by Federal programs either directly or through State or local governments, by Federal grant, contract, loan, or loan guarantee. The law does not apply to children's services provided in private residences, facilities funded solely by Medicare or Medicaid funds, and portions of facilities used for inpatient drug or alcohol treatment. Failure to comply with the provisions of the law may result in the imposition of a civil monetary penalty of up to $1000 per day and/or the imposition of an administrative compliance order on the responsible entity. By signing and submitting this application the applicant/grantee certifies that it will comply with the requirements of the Act.

The applicant/grantee further agrees that it will require the language of this certification be included in any subawards which contain provisions for the children's services and that all subgrantees shall certify accordingly.

Developing ACF Program Announcements, Attachment I

Certification Regarding Debarment, Suspension and Other Responsibility Matters

Certification Regarding Debarment, Suspension, and Other Responsibility Matters—Primary Covered Transactions

Instructions for Certification

1. By signing and submitting this proposal, the prospective primary participant is providing the certification set out below.

2. The inability of a person to provide the certification required below will not necessarily result in denial of participation in this covered transaction. The prospective participant shall submit an explanation of why it cannot provide the certification set out below. The certification or explanation will be considered in connection with the department or agency's determination whether to enter into this transaction. However, failure of the prospective primary participant to furnish a certification or an explanation shall disqualify such person from participation in this transaction.

3. The certification in this clause is a material representation of fact upon which reliance was placed when the department or agency determined to enter into this transaction. If it is later determined that the prospective primary participant knowingly rendered an erroneous certification, in addition to other remedies available to the Federal Government, the department or agency may terminate this transaction for cause or default.

4. The prospective primary participant shall provide immediate written notice to the department or agency to which this proposal is submitted if at any time the prospective primary participant learns that its certification was erroneous when submitted or has become erroneous by reason of changed circumstances.

5. The terms covered transaction, debarred, suspended, ineligible, lower tier covered transaction, participant, person, primary covered transaction, principal, proposal, and voluntarily excluded, as used in this clause, have the meanings set out in the Definitions and Coverage sections of the rules implementing Executive Order 12549, You may contact the department or agency to which this proposal is being submitted for assistance in obtaining a copy of those regulations.

6. The prospective primary participant agrees by submitting this proposal that, should the proposed covered transaction be entered into, it shall not knowingly enter into any lower tier covered transaction with a person who is proposed for debarment under 48 CFR part 9, subpart 9.4 debarred, suspended, declared ineligible, or voluntarily excluded from participation in this covered transaction, unless authorized by the department or agency entering into this transaction.

7. The prospective primary participant further agrees by submitting this proposal that it will include the clause titled “Certification Regarding Debarment, Suspension, Ineligibility and Voluntary Exclusion-Lower Tier Covered Transaction,” provided by the department or agency entering into this covered transaction, without modification, in all lower tier covered transactions and in all solicitations for lower tier covered transactions.

8. A participant in a covered transaction may rely upon a certification of a prospective participant in a lower tier covered transaction that is not proposed for debarment under 48 CFR part 9, subpart 9.4, debarred, suspended, ineligible, or voluntarily excluded from the covered transaction, unless it knows that the certification is erroneous. A participant may decide the method and frequency by which it determines the eligibility of its principals. Each participant may, but is not required to, check the List of Parties Excluded from Federal Procurement and Nonprocurement Programs.

9. Nothing contained in the foregoing shall be construed to require establishment of a system of records in order to render in good faith the certification required by this clause. The knowledge and information of a participant is not required to exceed that which is normally possessed by a prudent person in the ordinary course of business dealings.

10. Except for transactions authorized under paragraph 6 of these instructions, if a participant in a covered transaction knowingly enters into a lower tier covered transaction with a person who is proposed for debarment under 48 CFR part 9, subpart 9.4, suspended debarred, ineligible, or voluntarily excluded from participation in this transaction, in addition to other remedies available to the Federal Government, the department or agency may terminate this transaction for cause or default.

Certification Regarding Debarment, Suspension, and Other Responsibility Matters—Primary Covered Transactions

(1) The prospective primary participant certifies to the best of its knowledge and belief, that it and its principals:

(a) Are not presently debarred, suspended, proposed for debarment, declared ineligible, or voluntarily excluded by any Federal department or agency;

(b) Have not within a three-year period preceding this proposal been convicted of or had a civil judgment rendered against them for commission of fraud or a criminal offense in connection with obtaining, attempting to obtain, or performing a public (Federal, State or local) transaction or contract under a public transaction; violation of Federal or State antitrust statutes or commission of embezzlement, theft, forgery, bribery, falsification or destruction of records, making false statements, or receiving stolen property;

(c) Are not presently indicted for or otherwise criminally or civilly charged by a governmental entity (Federal, State or local) with commission of any of the offenses enumerated in paragraph (1)(b) of this certification; and

(d) Have not within a three-year period preceding this application/proposal had one or more public transactions (Federal, State or local) terminated for cause or default.

(2) Where the prospective primary participant is unable to certify to any of the statements in this certification, such prospective participant shall attach an explanation to this proposal.

Certification Regarding Debarment, Suspension, Ineligibility and Voluntary Exclusion—Lower Tier Covered Transactions

Instructions for Certification

1. By signing and submitting this proposal, the prospective lower tier participant is providing the certification set out below.

2. The certification in this clause is a material representation of fact upon which reliance was placed when this transaction was entered into. If it is later determined that the prospective lower tier participant knowingly rendered an erroneous certification, in addition to other remedies available to the Federal Government the department or agency with which this transaction originated may pursue available remedies, including suspension and/or debarment.

3. The prospective lower tier participant shall provide immediate written notice to the person to which this proposal is submitted if at any time the prospective lower tier participant learns that its certification was erroneous when submitted or had become erroneous by reason of changed circumstances.

4. The terms covered transaction, debarred, suspended, ineligible, lower tier covered transaction, participant, person, primary covered transaction, principal, proposal, and voluntarily excluded, as used in this clause, have the meaning set out in the Definitions and Coverage sections of rules implementing Executive Order 12549. You may contact the person to which this proposal is submitted for assistance in obtaining a copy of those regulations.

5. The prospective lower tier participant agrees by submitting this proposal that, [Page 33043] should the proposed covered transaction be entered into, it shall not knowingly enter into any lower tier covered transaction with a person who is proposed for debarment under 48 CFR part 9, subpart 9.4, debarred, suspended, declared ineligible, or voluntarily excluded from participation in this covered transaction, unless authorized by the department or agency with which this transaction originated.

6. The prospective lower tier participant further agrees by submitting this proposal that it will include this clause titled “Certification Regarding Debarment, Suspension, Ineligibility and Voluntary Exclusion-Lower Tier Covered Transaction,” without modification, in all lower tier covered transactions and in all solicitations for lower tier covered transactions.

7. A participant in a covered transaction may rely upon a certification of a prospective participant in a lower tier covered transaction that it is not proposed for debarment under 48 CFR part 9, subpart 9.4, debarred, suspended, ineligible, or voluntarily excluded from covered transactions, unless it knows that the certification is erroneous. A participant may decide the method and frequency by which it determines the eligibility of its principles. Each participant may, but is not required to, check the List of Parties Excluded from Federal Procurement and Nonprocurement Programs.

8. Nothing contained in the foregoing shall be construed to require establishment of a system of records in order to render in good faith the certification required by this clause. The knowledge and information of a participant is not required to exceed that which is normally possessed by a prudent person in the ordinary course of business dealings.

9. Except for transactions authorized under paragraph 5 of these instructions, if a participant in a covered transaction knowingly enters into a lower tier covered transaction with a person who is proposed for debarment under 48 CFR part 9, subpart 9.4, suspended, debarred, ineligible, or voluntarily excluded from participation in this transaction, in addition to other remedies available to the Federal Government, the department or agency with which this transaction originated may pursue available remedies, including suspension and/or debarment.

Certification Regarding Debarment, Suspension, Ineligibility an Voluntary Exclusion—Lower Tier Covered Transactions

(1) The prospective lower tier participant certifies, by submission of this proposal, that neither it nor its principals is presently debarred, suspended, proposed for debarment, declared ineligible, or voluntarily excluded from participation in this transaction by any Federal department or agency.

(2) Where the prospective lower tier participant is unable to certify to any of the statements in this certification, such prospective participant shall attach an explanation to this proposal.

Office of Management and Budget, Attachment J

It is estimated that in 2001 the Federal Government will outlay $305.6 billion in grants to State and local governments. Executive Order 12372, “Intergovernment Review of Federal Programs,” was issued with the desire to foster the intergovernmental partnership and strengthen federalism by relying on State and local processes for the coordination and review of proposed Federal financial assistance and direct Federal development. The Order allows each State to designate an entity to perform this function. Below is the official list of those entities. For those States that have a home page for their designated entity, a direct link has been provided below. States that are not listed on this page have chosen not to participate in the intergovernmental review process, and therefore do not have a SPOC. If you are located within one of these States, you may still send application materials directly to a Federal awarding agency.

Arkansas

Tracy L. Copeland

Manager, State Clearinghouse

Office of Intergovernmental Services

Department of Finance and Administration

1515 W. 7th St., Room 412

Little Rock, Arkansas 72203

Telephone: (501) 682-1074

Fax: (501) 682-5206

tlcopeland@dfa.state.ar.us

California

Grants Coordination

State Clearinghouse

Office of Planning and Research

P.O. Box 3044, Room 222

Sacramento, California 95812-3044

Telephone: (916) 445-0613

Fax: (916) 323-3018

state.clearinghouse@opr.ca.gov

Delaware

Charles H. Hopkins

Executive Department

Office of the Budget

540 S. Dupont Highway, 3rd Floor

Dover, Delaware 19901

Telephone: (302) 739-3323

Fax: (302) 739-5661

chopkins@state.de.us

District of Columbia

Ron Seldon

Office of Grants Management and Development

717 14th Street, NW., Suite 1200

Washington, DC 20005

Telephone: (202) 727-1705

Fax: (202) 727-1617

ogmd-ogmd@dcgov.org

Florida

Cherie L. Trainor

Florida State Clearinghouse

Department of Community Affairs

2555 Shumard Oak Blvd.

Tallahassee, Florida 32399-2100

Telephone: (850) 922-5438

(850) 414-5495 (direct)

Fax: (850) 414-0479

cherie.trainor@dca.state.fl.us

Georgia

Georgia State Clearinghouse

270 Washington Street, SW

Atlanta, Georgia 30334

Telephone: (404) 656-3855

Fax: (404) 656-7901

gach@mail.opb.state.ga.us

Illinois

Virginia Bova

Department of Commerce and Community Affairs

James R. Thompson Center

100 West Randolph, Suite 3-400

Chicago, Illinois 60601

Telephone: (312) 814-6028

Fax: (312) 814-8485

vbova@commerce.state.il.us

Iowa

Steven R. McCann

Division of Community and Rural Development

Iowa Department of Economic Development

200 East Grand Avenue

Des Moines, Iowa 50309

Telephone: (515) 242-4719

Fax: (515) 242-4809

steve.mccann@ided.state.ia.us

Kentucky

Ron Cook

Department for Local Government

1024 Capital Center Drive, Suite 340

Frankfort, Kentucky 40601

Telephone: (502) 573-2382

Fax: (502) 573-2512

ron.cook@mail.state.ky.us

Maine

Joyce Benson

State Planning Office

184 State Street

38 State House Station

Augusta, Maine 04333

Telephone: (207) 287-1461

(207) 287-1461 (direct)

Fax: (207) 287-6489

joyce.benson@state.me.us

Maryland

Linda Janey

Manager, Clearinghouse and Plan Review Unit

Maryland Office of Planning

301 West Preston Street—Room 1104

Baltimore, Maryland 21201-2305

Telephone: (410) 767-4490

Fax: (410) 767-4480

linda@mail.op.state.md.us

Michigan

Richard Pfaff

Southeast Michigan Council of Governments

535 Griswold, Suite 300

Detroit, Michigan 48226

Telephone: (313) 961-4266

Fax: (313) 961-4869

pfaff@semcog.org

Mississippi

Cathy Mallette

Clearinghouse Officer

Department of Finance and Administration

550 High Street

303 Walters Sillers Building

Jackson, Mississippi 39201-3087

Telephone: (601) 359-6762

Fax: (601) 359-6758

Missouri

Lois Pohl

Federal Assistance Clearinghouse

Office of Administration

P.O. Box 809

Jefferson Building, Room 915

Jefferson City, Missouri 65102

Telephone: (573) 751-4834

Fax: (573) 522-4395

pohll_@mail.oa.state.mo.us

Nevada

Heather Elliott

Department of Administration

State Clearinghouse

209 E. Musser Street, Room 200

Carson City, Nevada 89701

Telephone: (775) 684-0209

Fax: (775) 684-0260

helliott@govmail.state.nv.us

New Hampshire

Jeffrey H. Taylor

Director

New Hampshire Office of State Planning

Attn: Intergovernmental Review Process

Mike Blake

2½ Beacon Street

Concord, New Hampshire 03301

Telephone: (603) 217-2155

Fax: (603 271-1728

jtaylor@osp.state.nh.us

New Mexico

Ken Hughes

Local Government Division

Room 201 Bataan Memorial Building

Sante Fe, New Mexico 87503

Telephone: (505) 827-4370

Fax: (505) 827-4948

khughes@dfa.state.nm.us

North Carolina

Jeanette Furney

Department of Administration

1302 Mail Service Center

Raleigh, North Carolina 27699-1302

Telephone: (919) 807-2323

Fax: (919) 733-9571

jeanette.furney@ncmail.net

North Dakota

Jim Boyd

Division of Community Services

600 East Boulevard Ave, Dept 105

Bismarck, North Dakota 58505-0170

Telephone: (701) 328-2094

Fax: (701) 328-2308

jboyd@state.nd.us

Rhode Island

Kevin Furney

Department of Administration

Statewide Pklanning Program

One Capitol Hill

Providence, Rhode Island 02908-5870

Telephone: (401) 222-2093

Fax: (401) 222-2083

kneslson@doa.state.ri.us

South Carolina

Omeagia Burgess

Budget and Control Board

Office of State Budget

1122 Ladies Street, 12th Floor

Columbia, South Carolina 29201

Telephone: (803) 734-0494

Fax: (803) 734-0645

aburgess@budget.state.sc.us

Texas

Denise S. Francis

Director, State Grants Team

Governor's Office of Budget and Planning

P.O. Box 12428

Austin, Texas 78711

Telephone: (512) 305-9415

Fax: (512) 936-2681

dfrancis@governor.state.tx.us

Utah

Carolyn Wright

Utah State Clearinghouse

Governor's Office of Planning and Budget

State Capitol, Room 114

Salt Lake City, Utah 84114

Telephone: (801) 538-1535

Fax: (801) 538-1547

cwright@gov.state.ut.us

West Virginia

Fred Cutlip, Director

Community Development Division

West Virginia Development Office

Building #6, room 553

Charleston, West Virginia 25305

Telephone: (304) 558-4010

Fax: (304) 558-3248

fcutlip@wvdo.org

Wisconsin

Jeff Smith

Section Chief, Federal/State Relations

Wisconsin Department of Administration

101 East Wilson Street—6th Floor

P.O. Box 7868

Madison, Wisconsin 53707

Telephone: (608) 266-0267

Fax: (608) 267-6931

jeffrey.smith@doa.state.wi.us

American Samoa

Pat M. Galea'i

Federal Grants/Programs Coordinator

Office of Federal Programs

Office of the Governor/Department of Commerce

American Samoa Government

Pago Pago, American Samoa 96799

Telephone: (684) 633-5155

Fax: (684) 633-4195

pmgaleai@samoatelco.com

Guam

Director

Bureau of Budget and Management Research

Office of the Governor

P.O. Box 2950

Agana, Guam 96910

Telephone: 011-671-472-2285

Fax: 011-472-2825

jer@ns.gov.gu

Puerto Rico

Jose Caballero/Mayra Silva

Puerto Rico Planning Board

Federal Proposals Review Office

Minillas Government Center

P.O. Box 4119

San Juan, Puerto Rico 00940-1119

Telephone: (787) 723-6190

Fax: (787) 722-6783

North Mariana Islands

Ms. Jacoba T. Seman

Federal Programs Coordinator

Office of Management and Budget

Office of the Governor

Saipan, MP 96950

Telephone: (670) 664-2289

Fax: (670) 664-2272

omb.jseman@saipan.com

Virgin Islands

Ira Mills

Director, Office of Management and Budget #41 Norre Gade Emancipation Garden Station, Second Floor

Saint Thomas, Virgin Islands 00802

Telephone: (340) 774-0750

Fax: (340) 776-0069

Irmills@usvi.org

Changes to this list can be made only after OMB is notified by a State's officially designated representative. E-mail messages can be sent to grants@omb.eop.gov. If you prefer, you may send correspondence to the following postal address:

Attn: Grants Management, Office of Management and Budget, New Executive Office Building, suite 6025, 725 17th Street, NW, Washington, DC 20503.

Please note: Inquiries about obtaining a Federal grant should not be sent to the OMB e-mail or postal address shown above. The best source for this information is the CFDA.

Attachment K—DHHS Regulations Applying to All Applicants/Grantees Under the Assets for Independence Demonstration Program (IDA Program),

Title 45 of the Code of Federal Regulations

Part 16—Department of Grant Appeals Process

Part 74—Administration of Grants (grants with subgrants to entities)

Part 75—Informal Grant Appeal Procedures

Part 76—Debarment and Suspension from Eligibility for Financial Assistance

Subpart F—Drug Free Workplace Requirements

Part 80—Non-Discrimination Under Programs Receiving Federal Assistance through the Department of Health and Human Services Effectuation of Title VI of the Civil Rights Act of 1964

Part 81—Practice and Procedures for Hearings Under Part 80 of this Title

Part 83—Regulation for the Administration and Enforcement of Sections 799A and 845 of the Public Health Service Act

Part 84—Non-discrimination on the Basis of Handicap in Programs and Activities Receiving Federal Financial Assistance

Part 85—Enforcement of Non-Discrimination on the Basis of Handicap in Programs or Activities Conducted by the Department of Health and Human Services

Part 86—Nondiscrimination on the Basis of Sex in Education Programs and Activities Receiving or Benefiting from Federal Financial Assistance

Part 91—Non-discrimination on the Basis of Age in Health and Human Services Programs or Activities Receiving Federal Financial Assistance

Part 92—Uniform Administrative Requirements for Grants and Cooperative Agreements to States and Local Governments (Federal Register, March 11, 1988)

Part 93—New Restrictions on Lobbying Part 100—Intergovernmental Review of Department of Health and Human Services Programs and Activities

Attachment L

Note: Attachment L can be found at 65 FR 10027, February 25, 2000.

Attachment M

2001 Poverty Guidelines for the 48 Contiguous States and the District of Columbia
Size of family unit | Poverty guideline | 200%
1 | $8,590 | $17,180
2 | 11,610 | 23,220
3 | 14,630 | 29,260
4 | 17,650 | 35,300
5 | 20,670 | 41,340
6 | 23,690 | 47,380
7 | 26,710 | 53,420
8 | 29,730 | 59,460
For family units with more than 8 members, add $3,020 for each additional member. (For 200% add $6,040 for each additional member)

2001 Poverty Guidelines for Alaska
Size of family unit | Poverty guideline | 200%
1 | $10,730 | $21,460
2 | 14,510 | 29,020
3 | 18,290 | 36,580
4 | 22,070 | 44,140
5 | 25,850 | 51,700
6 | 29,630 | 59,260
7 | 33,410 | 66,820
8 | 37,190 | 74,380
For family units with more than 8 members, add $3,780 for each additional member. (For 200% add $7,560 for each additional member)

2001 Poverty Guidelines for Hawaii
Size of family unit | Poverty guideline | 200%
1 | $9,890 | $19,780
2 | 13,360 | 26,720
3 | 16,830 | 33,660
4 | 20,300 | 40,600
5 | 23,770 | 47,540
6 | 27,240 | 54,480
7 | 30,710 | 61,420
8 | 34,180 | 68,360
For family units with more than 8 members, add $3,470 for each additional member. (For 200% add $6,940 for each additional member)

[FR Doc. 01-18177 Filed 7-23-01; 8:45 am]

BILLING CODE 4184-01-P